ENVIRONMENTAL PROTECTION AGENCY

40 CFR Part 52

[EPA-R10-OAR-2024-0151; FRL-11672-01-R10]

Air Plan Approval; WA; Update to Materials Incorporated by Reference

AGENCY: Environmental Protection Agency (EPA).

ACTION: Final rule; administrative change.

SUMMARY: The Environmental Protection Agency (EPA) is updating the materials that are incorporated by reference (IBR) into the Washington State Implementation Plan (SIP). The regulations affected by this update have been previously submitted by Washington and approved by the EPA. In this final rule, the EPA is also notifying the public of corrections and clarifying changes in the Code of Federal Regulations (CFR) tables that identify the materials incorporated by reference into the Washington SIP. This update affects the materials that are available for public inspection at the National Archives and Records Administration (NARA) and the EPA Regional Office.

DATES: This action is effective August 19, 2024.

ADDRESSES: The SIP materials for which incorporation by reference into 40 CFR part 52 is finalized through this action are available for inspection at the following locations: Environmental Protection Agency, Region 10, 1200 Sixth Avenue, Suite 155, Seattle, WA 98101; and www.regulations.gov. To view the materials at the Region 10 Office, the EPA requests that you email the contact listed in the FOR FURTHER INFORMATION CONTACT section to schedule your inspection. The Regional Office's official hours of business are Monday through Friday 8:30 a.m. to 4:30 p.m., excluding Federal holidays.

FOR FURTHER INFORMATION CONTACT: Jeff Hunt, EPA Region 10, 1200 Sixth Avenue—Suite 155, Seattle, WA 98101, at (206) 553-0256, or hunt.jeff@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to the EPA. Once these control measures and strategies are approved by EPA, and after notice and comment, they are incorporated into the federally approved SIP and are identified in part 52, “Approval and Promulgation of Implementation Plans,” of Title 40 of the Code of Federal Regulations (40 CFR part 52). The full text of the state regulation approved by the EPA is not reproduced in its entirety in 40 CFR part 52 but is “incorporated by reference.” This means that the EPA has approved a given state regulation or specified changes to the given regulation with a specific effective date. The public is referred to the location of the full text version should they want to know which measures are contained in a given SIP. The information provided allows the EPA and the public to monitor the extent to which a state implements a SIP to attain and maintain the NAAQS and to take enforcement action for violations of the SIP.

The SIP is a living document which the state can revise as necessary to address the unique air pollution problems in the state. Therefore, the EPA from time to time must take action on proposed revisions containing new or revised state regulations. A submission from a state can revise one or more rules in their entirety, or portions of rules. The state indicates the changes in the submission (such as by using redline/strikethrough text) and the EPA then takes action on the requested changes. The EPA establishes a docket for its actions using a unique Docket Identification Number, which is listed in each action. These dockets and the complete submission are available for viewing on www.regulations.gov.

On May 22, 1997 (62 FR 27968), the EPA revised the procedures for incorporating by reference, into the Code of Federal Regulations, materials approved by the EPA into each SIP. These changes revised the format for the identification of the SIP in 40 CFR part 52, streamlined the mechanisms for announcing the EPA approval of revisions to a SIP, and streamlined the mechanisms for the EPA's updating of the IBR information contained for each SIP in 40 CFR part 52. The revised procedures also called for the EPA to maintain “SIP Compilations” that contain the federally approved regulations and source-specific permits submitted by each state agency.

The EPA generally updates these SIP Compilations every few years. Under the revised procedures, the EPA must periodically publish an informational document in the rules section of the Federal Register notifying the public that updates have been made to a SIP Compilation for a particular state. The EPA began applying the 1997 revised procedures to the Washington SIP on March 20, 2013 ((78 FR 17108). The EPA subsequently published updates to the IBR materials for Washington on December 8, 2014 (79 FR 72548), April 12, 2016 (70 FR 21470), February 8, 2019 (84 FR 2738), and August 3, 2021 (86 FR 41716).

A. Approved and Incorporated by Reference Regulatory Materials

Since the last IBR update, the EPA approved and incorporated by reference the following regulatory materials into the Washington SIP:

Table 1—Regulations Approved Statewide

• Washington Administrative Code, Chapter 173-423, Low Emission Vehicles, sections 010 (Purpose), 020 (Applicability), 025 (Effective Date), 030 (Incorporation by Reference), 040 (Definitions and Abbreviations), 050 (Requirement to Meet California Vehicle Emission Standards), 060 (Exemptions), 070 (Emission Standards, Warranty, Recall and Other California Provisions Adopted by Reference), 080 (Fleet Average Nonmethane Organic Gas (NMOG) and NMOG Plus NOX Exhaust Emission Requirements, Reporting and Compliance), 100 (Manufacturer Delivery Reporting Requirements), 110 (Warranty Requirements), 120 (Recalls), 130 (Surveillance), 140 (Enforcement), and 150 (Severability). For more information, see 86 FR 61705 (November 8, 2021).

• Washington Administrative Code, Chapter 332-24—Forest Protection, sections 332-24-201 (Burning Permit Program—Requirements and Exceptions), 332-24-205 (General rules—Minimum Requirements for All Burning), 332-24-211 (Specific rules for small fires not requiring a written burning permit), 332-24-217 (Burning permit requirements—Penalty), and 332-24-221 (Specific Rules for Burning That Requires a Written Burning Permit). For more information, see 88 FR 54240 (August 10, 2023).

• Revised Code of Washington, Chapter 52.12—Fire Protection Districts, Powers—Burning Permits, sections 52.12.103 (Burning permits—Issuance—Contents) and 52.12.104 (Burning permits—Duties of permittee). For more information, see 88 FR 54240 (August 10, 2023).

• Revised Code of Washington, Chapter 70A.15—Washington Clean Air Act, sections 70A.15.1030(21) (Definitions. “Silvicultural burning”), 70A.15.5000 (Definition of “outdoor burning”), 70A.15.5010(2) (Outdoor burning—Fires prohibited—Exceptions), 70A.15.5020 (Outdoor burning—Areas where prohibited—Exceptions—Use for management of storm or flood-related debris—Silvicultural burning), 70A.15.5120 (Burning permits for abating or prevention of forest fire hazards, management of ecosystems, instruction or silvicultural operations—issuance—Fees), 70A.15.5130 (Silvicultural forest burning—Reduce statewide emissions Exemption—Monitoring program), 70A.15.5140 (Burning permits for abating or prevention of forest fire hazards, management of ecosystems, instruction or silvicultural operations—Conditions for issuance and use of permits—Air quality standards to be met—Alternate methods to lessen forest debris), 70A.15.5150 (Cooperation between department of natural resources and state, local, or regional air pollution authorities—Withholding of permits), and 70A.15.5190 (Outdoor burning allowed for managing storm or flood-related debris). For more information, see 88 FR 54240 (August 10, 2023).

• Revised Code of Washington, Chapter 76.04—Forest Protection, sections 76.04.005 (Definitions) and 76.04.205 (Burning Permits—Civil Penalty). For more information, see 88 FR 54240 (August 10, 2023).

• Washington Administrative Code, Chapter 173-405—Kraft Pulping Mills, section 173-405-040 (Emissions Standards), Chapter 173-410—Sulfite Pulping Mills, section 173-410-040 (Emissions Standards), and Chapter 173-415—Primary Aluminum Plants section 173-415-030 (Emissions Standards). For more information, see 88 FR 89582 (December 28, 2023).

Table 2—Additional Regulations Approved for Washington Department of Ecology (Ecology) Direct Jurisdiction

• Washington Administrative Code, Chapter 173-400, General Regulations for Air Pollution Sources, sections 173-400-030 (Definitions), 173-400-070 (Emission Standards for Certain Source Categories), 173-400-081 (Startup and Shutdown), 173-400-082 (Alternative Emissions Limit That Exceeds an Emission Standard in the SIP) and 173-400-171 (Public Notice and Opportunity for Public Comment). For more information, see 88 FR 89582 (December 28, 2023).

Table 4—Additional Regulations Approved for the Benton Clean Air Agency (BCAA) Jurisdiction

• Washington Administrative Code, Chapter 173-400, General Regulations for Air Pollution Sources, sections 173-400-030 (Definitions), 173-400-070 (Emission Standards for Certain Source Categories), 173-400-081 (Startup and Shutdown), 173-400-082 (Alternative Emissions Limit That Exceeds an Emission Standard in the SIP) and 173-400-171 (Public Notice and Opportunity for Public Comment). For more information, see 88 FR 89582 (December 28, 2023).

Table 8—Additional Regulations Approved for the Southwest Clean Air Agency (SWCAA) Jurisdiction

• Southwest Clean Air Agency Regulations, SWCAA 400—General Regulations for Air Pollution Sources, sections 400-025 (Adoption of Federal Rules), 400-030 (Definitions), 400-036 (Portable Sources from Other Washington Jurisdictions), 400-050 (Emission Standards for Combustion and Incineration Units), 400-060 (Emission Standards for General Process Units), 400-072 (Small Unit Notification for Selected Source Categories), 400-074 (Gasoline Transport Tanker Registration), 400-091 (Voluntary Limits on Emissions), 400-105 (Records, Monitoring and Reporting), 400-106 (Emission Testing and Monitoring at Air Contaminant Sources), 400-109 (Air Discharge Permit Applications), 400-110 (Application Review Process for Stationary Sources (New Source Review), 400-111 (Requirements for New Sources in a Maintenance Plan Area), 400-112 (Requirements for New Sources in Nonattainment Areas), 400-113 (Requirements for New Sources in Attainment or Nonclassifiable Areas), 400-114 (Requirements for Replacement or Substantial Alteration of Emission Control Technology at an Existing Stationary Source), 400-136 (Maintenance of Emission Reduction Credits in Bank), 400-151 (Retrofit Requirements for Visibility Protection), 400-171 (Public Involvement), 400-260 (Conflict of Interest), 400-810 (Major Stationary Source and Major Modification Definitions), 400-850 (Actual Emissions—Plantwide Applicability Limitation (PAL)), and Appendix A (SWCAA Method 9 Visual Opacity Determination Method). For more information, see 88 FR 67097 (September 29, 2023).

• Southwest Clean Air Agency Regulations, SWCAA 491—Emissions Standards and Controls for Sources Emitting Gasoline Vapors, sections 491-010 (Policy and Purpose), 491-015 (Applicability), 491-020 (Definitions), 491-030 (Registration), 491-040 (Gasoline Vapor Control Requirements), 491-050 (Failures, Certification, Testing and Recordkeeping), and 491-060 (Severability). For more information, see 88 FR 66692 (September 28, 2023).

Table 9—Additional Regulations Approved for the Yakima Regional Clean Air Agency (YRCAA) Jurisdiction

• Yakima Regional Clean Air Agency Regulation 1, sections 3.04 (Wood Heaters) and 3.05 (Burn Bans). For more information, see 87 FR 3435 (January 24, 2022).

• Yakima Regional Clean Air Agency Regulation 1, sections 1.01 (Name of Agency), 1.02 (Short Title), 1.03 (Policy), 1.04 (Applicability), 1.06 (Records), 1.07 (General Provisions), 2.04 (Public Participation in Permitting), 3.01 (General Rules), 3.08 (Specific Dust Controls), 4.01 (Registration Program), 4.03 (Voluntary Limits on Emissions), Appendix A (Definitions of Words and Phrases), and Appendix B (Definitions of Acronyms and Abbreviations). For more information, see 87 FR 41064 (July 11, 2022).

• Yakima Regional Clean Air Agency Regulation 1, section 3.03 (Outdoor and Agricultural Burning). For more information, see 88 FR 66692 (September 28, 2023).

• Washington Administrative Code, Chapter 173-400, General Regulations for Air Pollution Sources, sections 020 (Applicability), 025 (Adoption of Federal Rules), 030 (Definitions), 036 (Relocation of Portable Sources), 040 (General Standards for Maximum Emissions), 050 (Emission Standards for Combustion and Incineration Units), 060 (Emission Standards for General Process Units), 105 (Records, Monitoring and Reporting), 110 (New Source Review (NSR) for Sources and Portable Sources), 111 (Processing Notice of Construction Applications for Sources, Stationary), 112 (Requirements for New Sources in Nonattainment Areas), 113 (Requirements for New Sources in Attainment or Unclassifiable Areas), 117 (Special Protection Requirements for Federal Class I Areas), 118 (Designation of Class I, II, and III Areas), 131 (Issuance of Emission Reduction Credits), 136 (Use of Emission Reduction Credits (ERC)), 151 (Retrofit Requirements for Visibility Protection), 171 (Public Notice and Opportunity for Public Comment), 200 (Creditable Stack Height and Dispersion Techniques), 560 (General Order of Approval), 800 (Major Stationary Source and Major Modification in a Nonattainment Area), 810 (Major Stationary Source and Major Modification Definitions), 820 (Determining if a New Stationary Source or Modification to a Stationary Source is Subject to these Requirements), 830 (Permitting Requirements), 840 (Emission Offset Requirements), 850 (Actual Emissions Plantwide Applicability Limitation (PAL)), and 860 (Public Involvement Procedures). For more information, see 87 FR 41064 (July 11, 2022).

B. Regulatory Materials Removed From Incorporation by Reference in the SIP

Table 1—Regulations Approved Statewide

• Washington Administrative Code, Chapter 173-405—Kraft Pulping Mills, section 173-405-077 (Report of Startup, Shutdown, Breakdown or Upset Conditions), Chapter 173-410—Sulfite Pulping Mills, section 173-410-067 (Report of Startup, Shutdown, Breakdown or Upset Conditions), and Chapter 173-415—Primary Aluminum Plants section 173-415-070 (Report of Startup, Shutdown, Breakdown or Upset Conditions). For more information, see 88 FR 89582 (December 28, 2023).

Table 2—Additional Regulations Approved for Washington Department of Ecology (Ecology) Direct Jurisdiction

• Washington Administrative Code, Chapter 173-400, General Regulations for Air Pollution Sources, sections 173-400-030(30)&(36) (Definitions) and 173-400-107 (Excess Emissions). For more information, see 88 FR 89582 (December 28, 2023).

Table 4—Additional Regulations Approved for the Benton Clean Air Agency (BCAA) Jurisdiction

• Washington Administrative Code, Chapter 173-400, General Regulations for Air Pollution Sources, sections 173-400-030(30)&(36) (Definitions) and 173-400-107 (Excess Emissions). For more information, see 88 FR 89582 (December 28, 2023).

Table 10—Additional Regulations Approved for the Yakima Regional Clean Air Agency (YRCAA) Jurisdiction

• Yakima Regional Clean Air Agency Regulation 1, state effective November 18, 1993, and December 15, 1995, sections 9.01 (Policy), 9.02 (Opacity), 9.03 (Prohibitive Fuel Types), 9.04 (Limitations of Sales of Solid Fuel Burning Devices), and 9.05 (Prohibition of Visible Emissions During Air Pollution Episodes). For more information, see 87 FR 3435 (January 24, 2022).

• Yakima Regional Clean Air Agency Regulation 1, state effective November 18, 1993 and December 15, 1995, sections 1.03 (Definitions), 2.02 (Control Officer—Powers & Duties), 2.03 (Miscellaneous Provisions), 2.04 (Confidentiality), 2.05 (Advisory Council), 3.01 (Notice of Violation—Corrective Action Hearings), 3.02 (Finality of Order), 3.03 (Stay of Order Pending Appeal), 3.04 (Voluntary Compliance), 4.02 (Notice of Construction), 4.03 (Exceptions to Article 4), 5.06 (General Standards for Maximum Permissible Emissions), 5.07 (Minimum Emission Standards for Combustion and Incineration Sources), 5.08 (Minimum Emissions Standards for General Process Sources), 5.10 (Sensitive Area Designation), 5.11 (Monitoring and Special Reporting), 5.12 (Preventive Measures), 8.01 (Penalty for Violation), 8.02 (Additional/Alternative Penalties), 8.03 (Assurance of Discontinuance), 8.04 (Restraining Order—Injunctions), 8.05 (Severability),12.01 (State Regulations), 13.01 (Registration and Fee Schedule), 13.02 (Notice of Construction Fee Schedule), 13.03 (Outdoor Burning Permit Fees). For more information, see 87 FR 41064 (July 11, 2022).

• Yakima Regional Clean Air Agency Regulation 1, state effective December 15, 1995, sections 5.01 (Outdoor Burning), 5.02 (Regulations Applicable to all Outdoor Burning), 5.03 (Regulations Applicable to all Outdoor Burning within Jurisdiction of the Yakima County Clean Air Authority, Local Cities, Towns, Fire Protection Districts and Conservation Districts), 5.04 (Regulations Applicable to Permits Issued by the Yakima County Clean Air Authority for all Other Outdoor Burning), and 5.05 (Additional Restrictions on Outdoor Burning). For more information, see 88 FR 66692 (September 28, 2023).

• Washington Administrative Code, Chapter 173-400, General Regulations for Air Pollution Sources, state effective March 22, 1991 and September 20, 1993, sections 010 (Policy and Purpose), 091 (Voluntary Limits on Emissions), and 100 (Registration). For more information, see 87 FR 41064 (July 11, 2022).

II. EPA Action

In this action, the EPA is providing notification of an update to the materials incorporated by reference into the Washington SIP as of February 1, 2024, and identified in 40 CFR 52.2470(c) and (d). This update includes SIP materials submitted by Washington and approved by the EPA since the last IBR update. See 86 FR 41716 (August 3, 2021). In addition, The EPA is providing notification of the following corrections and clarifying changes to 40 CFR 52.1770(c), (d), and (e):

Changes Applicable to Paragraph (c), Title

Changing the title of paragraph (c) to read “EPA-approved laws and regulations.”

Changes Applicable to Paragraph (c), Table 1

A. Changing the title of Table 1 to read “Table 1—Laws and Regulations Approved Statewide”;

B. Under “EPA approval date,” correcting Federal Register citations in entries 173-405-021, 173-405-072, 173-405-086, 173-405-087, 173-410-062, 173-410-086, 173-410-087, 173-415-015, 173-415-020, and 173-415-060 to reflect the first page of the preamble (85 FR 10983, February 26, 2020) as opposed to the first page of the regulatory text (85 FR 10984, February 26, 2020);

C. Under “EPA approval date,” correcting Federal Register citations in entries 173-423-010, 173-423-020, 173-423-025, 173-423-030, 173-423-040, 173-423-050, 173-423-060, 173-423-070, 173-423-080, 173-423-100, 173-423-110, 173-423-120, 173-423-130, 173-423-140, and 173-423-150 to reflect the first page of the preamble (86 FR 61705, November 8, 2021) as opposed to the first page of the regulatory text (86 FR 61707, November 8, 2021);

D. Under “EPA approval date,” correcting Federal Register citations in entries 173-476-020, 173-476-150, and 173-476-900 to reflect the first page of the preamble (81 FR 69385, October 6, 2016) as opposed to the first page of the regulatory text (81 FR 69386, October 6, 2016);

E. Under “EPA approval date,” correcting Federal Register citations in entries 332-24-201, 332-24-205, 332-24-211, 332-24-217, 332-24-221, 52.12.103, 52.12.104, 70A.15.1030(21), 70A.15.5000, 70A.15.5010, 70A.15.5020, 70A.15.5120, 70A.15.5130, 70A.15.5140, 70A.15.5150, 70A.15.5190, 76.04.005, and 76.04.205 to reflect the first page of the preamble (88 FR 54240, August 10, 2023) as opposed to the first page of the regulatory text (88 FR 54242, August 10, 2023). We are also correcting the date format to be consistent with the other table entries;

F. Correcting entry “70A.15.5010 (2)” to “70A.15.5010”;

G. Correcting the subheading “Revised Code of Washington, Chapter 76.04—Washington Clean Air Act” to “Revised Code of Washington, Chapter 76.04—Forest Protection”; and

H. Under “EPA approval date,” correcting Federal Register citations in entries 173-405-040, 173-410-040, and 173-415-030 to reflect the first page of the preamble (88 FR 89582) as opposed to the first page of the regulatory text (88 FR 89584, December 28, 2023). We are also correcting the date format to be consistent with the other table entries.

Changes Applicable to Paragraph (c), Table 2

A. Under “EPA approval date,” correcting Federal Register citations in entries 173-400-025, 173-400-040, 173-400-050, 173-400-060, 173-400-105, and 173-400-740 to reflect the first page of the preamble (85 FR 10301) as opposed to the first page of the regulatory text (85 FR 10302, February 24, 2020);

B. Under “EPA approval date,” correcting Federal Register citations in entries 173-400-111, 173-400-116, 173-400-710, 173-400-720, 173-400-730, 173-400-810, 173-400-830, 173-400-840, and 173-400-850 to reflect the first page of the preamble (81 FR 69385, October 6, 2016) as opposed to the first page of the regulatory text (81 FR 69386, October 6, 2016);

C. Under “EPA approval date,” correcting Federal Register citations in entries 173-400-110 and 173-400-112 to reflect the first page of the preamble (81 FR 66823, September 29, 2016) as opposed to the first page of the regulatory text (81 FR 66825, September 29, 2016);

D. Under “EPA approval date,” correcting Federal Register citations in entries 173-400-030, 173-400-070, 173-400-081, 173-400-082, and 173-400-171 to reflect the first page of the preamble (88 FR 89582, December 28, 2023) as opposed to the first page of the regulatory text (88 FR 89584, December 28, 2023). We are also correcting the date format to be consistent with the other table entries; and

E. Reinserting entry “173-400-036” which was inadvertently deleted.

Changes Applicable to Paragraph (c), Table 3

A. Under “EPA approval date,” correcting Federal Register citations in entries 78-005, 173-400-025, 173-400-030, 173-400-040, 173-400-050, 173-400-060, 173-400-105, 173-400-111, 173-400-116, 173-400-171, 173-400-710, 173-400-720, 173-400-730, 173-400-740, 173-400-810, 173-400-830, 173-400-840, and 173-400-850 to reflect the first page of the preamble (85 FR 4233, January 24, 2020) as opposed to the first page of the regulatory text (85 FR 4235, January 24, 2020); and

B. Under “EPA approval date,” correcting Federal Register citations in entries 78-010, 78-020, 78-030, 78-095, 78-120, 173-400-030(30) & (36), 173-400-036, 173-400-040(2), 173-400-070, 173-400-081, 173-400-091, 173-400-110, 173-400-112, 173-400-113, 173-400-117, 173-400-131, 173-400-136, 173-400-175, 173-400-200, 173-400-700, 173-400-750, 173-400-800, 173-400-820, and 173-400-860 to reflect the first page of the preamble (82 FR 24531, May 30, 2017) as opposed to the first page of the regulatory text (82 FR 24533, May 30, 2017).

Changes Applicable to Paragraph (c), Table 4

A. Revising the subheading to more accurately reflect jurisdictional applicability;

B. Under “EPA approval date,” correcting Federal Register citations in entries 4.01(A), 4.01(B), 173-400-025, 173-400-030, 173-400-040, 173-400-050, 173-400-060, 173-400-105, and 173-400-171 to reflect the first page of the preamble (85 FR 10301, February 24, 2020) as opposed to the first page of the regulatory text (85 FR 10302, February 24, 2020);

C. Under “EPA approval date,” correcting Federal Register citations in entries 173-400-070, 173-400-111, 173-400-810, 173-400-830, 173-400-840, and 173-400-850 to reflect the first page of the preamble (81 FR 69385, October 6, 2016) as opposed to the first page of the regulatory text (81 FR 69386, October 6, 2016);

D. Under “EPA approval date,” correcting Federal Register citations in entries 173-400-110 and 173-400-112 to reflect the first page of the preamble (81 FR 66823, September 29, 2016) as opposed to the first page of the regulatory text (81 FR 66825, September 29, 2016);

E. Under “EPA approval date,” correcting Federal Register citations in entries 173-400-030, 173-400-070, 173-400-081, 173-400-082, and 173-400-171 to reflect the first page of the preamble (88 FR 89582, December 28, 2023) as opposed to first page of the regulatory text (88 FR 89584, December 28, 2023). We are also correcting the date format to be consistent with the other table entries; and

F. Reinserting entry “173-400-036” which was inadvertently deleted.

Changes Applicable to Paragraph (c), Table 5

Under “EPA approval date,” correcting Federal Register citations in entries 100, 101, 102, 200, 300, 305, 320, 321, 173-400-020, 173-400-025, 173-400-030, 173-400-050, 173-400-060, 173-400-091, 173-400-111, 173-400-112, 173-400-113, 173-400-117, 173-400-118, 173-400-131, 173-400-136, 173-400-151, 173-400-171, 173-400-200, 173-400-800, 173-400-810, 173-400-820, 173-400-830, 173-400-840, 173-400-850, and 173-400-860 to reflect the first page of the preamble (85 FR 36154, June 15, 2020) as opposed to the first page of the regulatory text (85 FR 36156, June 15, 2020).

Changes Applicable to Paragraph (c), Table 6

Revising the subheading to more accurately reflect jurisdictional applicability.

Changes Applicable to Paragraph (c), Table 7

Under “EPA approval date,” correcting Federal Register citations in entries 1.01, 1.07, 3.03(f), 3.04, 3.25, 5.03, 5.05, 6.01, 6.03, 6.09, 6.10, 7.09, 9.03, 9.04, 9.07, 9.08, 9.09, 9.11(a), 9.13, 9.15, 9.16, 9.18, 12.03, 173-400-030, 173-400-081, 173-400-081, 173-400-111, 173-400-112, 173-400-113, 173-400-117, 173-400-171, 173-400-200, 173-400-560, 173-400-800, 173-400-810, 173-400-820, 173-400-830, 173-400-840, 173-400-850, 173-400-860, 173-400-020, 173-400-040, 173-400-091, 173-400-105, 173-400-107, 173-400-118, 173-400-131, 173-400-136, 173-400-151, and 173-400-175 to reflect the first page of the preamble (85 FR 22355, April 22, 2020) as opposed to the first page of the regulatory text (85 FR 22357, April 22, 2020).

Changes Applicable to Paragraph (c), Table 8

A. Revising the heading “SWCAA 400—General Regulations for Air Pollution Sources” to “General Regulations for Air Pollution Sources” to be consistent with other entries;

B. Under “EPA approval date,” correcting Federal Register citations in entries 400-025, 400-030, 400-036, 400-050, 400-060, 400-072, 400-074, 400-091, 400-105, 400-106, 400-109, 400-110, 400-111, 400-112, 400-113, 400-114, 400-136, 400-151, 400-171, 400-260, 400-810, 400-850, and Appendix A to reflect the first page of the preamble (88 FR 67097, September 29, 2023) as opposed to the first page of the regulatory text (88 FR 67099, September 29, 2023);

C. Removing the duplicative entry 400-074 (state effective November 15, 2009) which was replaced by the version effective June 18, 2017; and

D. Under “EPA approval date,” correcting Federal Register citations in entries 491-010, 491-015, 491-020, 491-030, 491-040, 491-050, and 491-060 to reflect the first page of the preamble (88 FR 66692, September 28, 2023) as opposed to the first page of the regulatory text (88 FR 66694, September 28, 2023).

Changes Applicable to Paragraph (c), Table 10

A. Under “EPA approval date,” correcting Federal Register citations in entries 1.01, 1.02, 1.03, 1.04, 1.06, 1.07, 2.04, 3.01, 3.08, 4.01, 4.03, Appendix A, Appendix B, 173-400-020, 173-400-025, 173-400-030, 173-400-036, 173-400-040, 173-400-050, 173-400-060, 173-400-105, 173-400-110, 173-400-111, 173-400-112, 173-400-113, 173-400-117, 173-400-118, 173-400-131, 173-400-136, 173-400-151, 173-400-171, 173-400-200, 173-400-560, 173-400-800, 173-400-810, 173-400-820, 173-400-830, 173-400-840, 173-400-850, and 173-400-860 to reflect the first page of the preamble (87 FR 41064, July 11, 2022) as opposed to the first page of the regulatory text (87 FR 41068, July 11, 2022);

B. Under “State/local effective date,” correcting the citation for entry 3.03 to “11/09/20”;

C. Under “EPA approval date,” correcting the Federal Register citation in entry 3.03 to reflect the first page of the preamble (88 FR 66690, September 28, 2023) as opposed to the first page of the regulatory text (88 FR 66691, September 28, 2023); and

D. Under “Explanations,” revising entry 3.03 to standardize the citation format.

Changes Applicable to Paragraph (d)

Under “EPA approval date,” correcting Federal Register citations in entries “Tyson Fresh Meats, Inc”, “Packaging Corporation of America (Wallula Mill)”, and “Simplot Feeders Limited Partnership” to reflect the first page of the preamble (85 FR 25303, May 1, 2020) as opposed to the first page of the regulatory text (85 FR 25306, May 1, 2020).

Changes Applicable to Paragraph (e), Table 1

A. Restoring entries 173-400-240, 173-400-250, and 173-400-260 for the Washington Department of Ecology Regulations which were inadvertently overwritten by corollaries for the Southwest Clean Air Agency jurisdiction. See 88 FR 67097, September 29, 2023).

B. Removing entries 400-270 and 400-280 which were inadvertently included with the Washington Department of Ecology Regulations (see 88 FR 67097, September 29, 2023);

C. Under “EPA approval date,” correcting Federal Register citations in entries 463-78-135, 463-78-140, 463-78-170, and 463-78-230 for the Energy Facility Site Evaluation Council Regulations to reflect the first page of the preamble (82 FR 24531, May 30, 2017) as opposed to the first page of the regulatory text (82 FR 24533, May 30, 2017);

D. Under “EPA approval date,” correcting Federal Register citations in entries 103, 105, 110, 111, 112, 113, 114, 120, 123, 124, 131, 132, 133, 134, 135, and 303 for the Northwest Clean Air Agency Regulations to reflect the first page of the preamble (85 FR 36154, June 15, 2020) as opposed to the first page of the regulatory text (85 FR 36156, June 15, 2020);

E. Under “EPA approval date,” correcting Federal Register citations in entries 3.01, 3.05, 3.07, 3.09, 3.11, 3.13, 3.15, 3.17, 3.19, and 3.21 for the Puget Sound Clean Air Agency Regulations to reflect the first page of the preamble (85 FR 22355, April 20, 2022) as opposed to the first page of the regulatory text (85 FR 22357, April 20, 2022);

F. Revising entries 400-230, 400-240, 400-270, and 400-280 for the Southwest Clean Air Agency Regulations which were inadvertently listed with the Washington Department of Ecology Regulations (see 88 FR 67097, September 29, 2023); and

G. Removing entry 400-260 for the Southwest Clean Air Agency Regulations which was moved to paragraph (c) on September 29, 2023 (88 FR 67097).

H. Under “EPA approval date,” correcting Federal Register citations in entries 2.01, 2.02, 2.03, 2.04, 2.05, 2.06, 2.10, 2.11, and 2.12 for the Spokane Regional Clean Air Agency Regulations to reflect the first page of the preamble (86 FR 24718, May 10, 2021) as opposed to the first page of the regulatory text (86 FR 24720, May 10, 2021);

I. Under “Title/subject,” correcting entry 2.02 for the Spokane Regional Clean Air Agency Regulations to “Control Officer's Duties and Powers”; and

J. Under “EPA approval date,” correcting Federal Register citations in entries 1.05, 2.01, 2.02, 2.05, 5.01, 5.02, and 5.03 for the Yakima Regional Clean Air Agency Regulations to reflect the first page of the preamble (87 FR 41064, July 11, 2022) as opposed to the first page of the regulatory text (87 FR 41068, July 11, 2022).

Changes Applicable to Paragraph (e), Table 2

A. Under “EPA approval date,” correcting Federal Register citations in entries “Carbon Monoxide Maintenance Plan 10-year Update” (Puget Sound), “Carbon Monoxide Maintenance Plan 10-year Update” (Vancouver), “Carbon Monoxide 2nd 10-Year Limited Maintenance Plan” (Spokane), “8-Hour Ozone 110(a)(1) Maintenance Plan” (Seattle—Tacoma), “8-Hour Ozone 110(a)(1) Maintenance Plan” (Vancouver), and “Particulate Matter (PM10) 2nd 10-Year Limited Maintenance Plan” (Kent, Seattle, and Tacoma) to reflect the first page of the preamble (86 FR 10026, February 18, 2021) as opposed to the first page of the regulatory text (86 FR 10027, February 18, 2021);

B. Under “EPA approval date,” correcting the Federal Register citation in entry “Carbon Monoxide 2nd 10-Year Limited Maintenance Plan” (Spokane) to reflect the first page of the preamble (81 FR 45417, July 14, 2016) as opposed to the first page of the regulatory text (81 FR 45419, July 14, 2016);

C. Under “EPA approval date,” correcting the Federal Register citation in entry “Particulate Matter (PM10) 2nd 10-Year Limited Maintenance Plan” (Spokane) to reflect the first page of the preamble (81 FR 21470, April 12, 2016) as opposed to the first page of the regulatory text (81 FR 21471, April 12, 2016);

D. Under “EPA approval date,” correcting the Federal Register citation in entry “Particulate Matter (PM10) 2nd 10-Year Limited Maintenance Plan” (Wallula) to reflect the first page of the preamble (85 FR 25303, May 1, 2020) as opposed to the first page of the regulatory text (85 FR 25306, May 1, 2020);

E. Under “EPA approval date,” correcting the Federal Register citation in entry “Regional Haze Progress Report” to reflect the first page of the preamble (83 FR 36752, July 31, 2018) as opposed to the first page of the regulatory text (83 FR 36754, July 31, 2018);

F. Adding the subheading “Smoke Management Planning” immediately before the entry “Department of Natural Resources 2022 Smoke Management Plan”;

G. Under “EPA approval date,” correcting the Federal Register citation in entry “Department of Natural Resources 2022 Smoke Management Plan” to reflect the first page of the preamble (88 FR 54240, August 10, 2023) as opposed to the first page of the regulatory text (88 FR 54242, August 10, 2023). We are also correcting the date format to be consistent with the other table entries;

H. Under “EPA approval date,” correcting the Federal Register citation in entry “110(a)(2) Infrastructure Requirements—2008 Lead Standard” to reflect the first page of the preamble (79 FR 42683, July 23, 2014) as opposed to the first page of the regulatory text (79 FR 42685, July 23, 2014);

I. Under “EPA approval date,” correcting the Federal Register citation in entry “Interstate Transport for the 2008 Ozone NAAQS” to reflect the first page of the preamble (80 FR 77578, December 15, 2015) as opposed to the first page of the regulatory text (80 FR 77580, December 15, 2015);

J. Under “EPA approval date,” correcting the Federal Register citation in entry “Interstate Transport for the 2012 PM2.5 NAAQS” to reflect the first page of the preamble (83 FR 42031) as opposed to the first page of the regulatory text (83 FR 42032);

K. Under “EPA approval date,” correcting the Federal Register citation in entry “Interstate Transport for the 2015 Ozone NAAQS” to reflect the first page of the preamble (83 FR 47568, September 20, 2018) as opposed to the first page of the regulatory text (83 FR 47569, September 20, 2018);

L. Under “EPA approval date,” correcting the Federal Register citation in entry “110(a)(2) Infrastructure Requirements—Sulfur Dioxide Standards and 2015 Ozone Standards” to reflect the first page of the preamble (86 FR 10022, February 18, 2021) as opposed to the first page of the regulatory text (86 FR 10024, February 18, 2021);

M. Under “EPA approval date,” correcting the Federal Register citation in entry “Interstate Transport for the 2010 SO2 NAAQS” to reflect the first page of the preamble (86 FR 10015, February 18, 2021) as opposed to the first page of the regulatory text (86 FR 10016, February 18, 2021);

N. Under “EPA approval date,” correcting the Federal Register citation in entry “2003 Columbia Plateau Windblown Dust Natural Events Action Plan” to reflect the first page of the preamble (85 FR 25303, May 1, 2020) as opposed to the first page of the regulatory text (85 FR 25306, May 1, 2020); and

O. Under “EPA approval date,” correcting the Federal Register citation in entry “2018 Fugitive Dust Control Guidelines for Beef Cattle Feedlots and Best Management Practices” to reflect the first page of the preamble (85 FR 25303, May 1, 2020) as opposed to the first page of the regulatory text (85 FR 25306, May 1, 2020).

III. Good Cause Exemption

The EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs, makes corrections and clarifying changes to the tables in the CFR, and makes ministerial changes to the prefatory heading to the tables in the CFR. Under section 553 of the APA, an agency may find good cause where procedures are “impracticable, unnecessary, or contrary to the public interest.” Public comment for this administrative action is “unnecessary” and “contrary to the public interest” since the codification (and corrections) only reflect existing law. Immediate notice of this action in the Federal Register benefits the public by providing the public notification of the updated Washington SIP Compilation and notification of corrections to the Washington “Identification of Plan” portion of the CFR. Further, pursuant to section 553(d)(3), making this action immediately effective benefits the public by immediately updating both the SIP Compilation and the CFR “Identification of plan” section (which includes table entry corrections).

IV. Incorporation by Reference

In this document, The EPA is finalizing regulatory text that includes incorporation by reference. In accordance with requirements of 1 CFR 51.5, The EPA is finalizing the incorporation by reference of regulations promulgated by Washington and local clean air agencies located in Washington, previously approved by the EPA and federally effective before February 1, 2024, contained in 40 CFR 52.2470(c), EPA-approved regulations and 40 CFR 52.2470(d) EPA-approved state source-specific requirements described in section II. of this preamble. The EPA has made, and will continue to make, these materials generally available through www.regulations.gov and at the EPA Region 10 Office (please contact the person identified in the FOR FURTHER INFORMATION CONTACT section of this preamble for more information).

V. Statutory and Executive Order Reviews

Under the Clean Air Act (CAA), the Administrator is required to approve a SIP submission that complies with the provisions of the CAA and applicable Federal regulations. 42 U.S.C. 7410(k); 40 CFR 52.02(a). Thus, in reviewing SIP submissions, The EPA's role is to approve state choices, provided that they meet the criteria of the CAA. Accordingly, this action merely approves state law as meeting Federal requirements and does not impose additional requirements beyond those imposed by State law. For that reason, this action:

• Is not a “significant regulatory action” subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

The SIP is not approved to apply on any Indian reservation land in Washington except as specifically noted below and is also not approved to apply in any other area where the EPA or an Indian Tribe has demonstrated that a Tribe has jurisdiction. In those areas of Indian country, the rule does not have Tribal implications as specified by Executive Order 13175 (65 FR 67249, November 9, 2000). Washington's SIP is approved to apply on non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area.

Executive Order (E.O.) 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.” The EPA did not perform an EJ analysis and did not consider EJ in this action. Consideration of EJ is not required as part of this action, and there is no information in the record inconsistent with the stated goal of E.O. 12898 of achieving EJ for people of color, low-income populations, and Indigenous peoples.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

The EPA also believes that the provisions of section 307(b)(1) of the CAA pertaining to petitions for judicial review are not applicable to this action. This is because prior EPA rulemaking actions for each individual component of the Washington SIP Compilation previously afforded interested parties the opportunity to file a petition for judicial review in the United States Court of Appeals for the appropriate circuit within 60 days of such rulemaking action. Thus, the EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 25, 2024.
Casey Sixkiller,
Regional Administrator, Region 10.

For the reasons set forth in the preamble, EPA is amending 40 CFR part 52 as follows:

PART 52—APPROVAL AND PROMULGATION OF IMPLEMENTATION PLANS

1. The authority citation for part 52 continues to read as follows:

Authority: 42 U.S.C. 7401 et seq.

Subpart WW—Washington

2. In § 52.2470, paragraphs (b), (c), (d) and (e) are revised to read as follows:

§ 52.2470 Identification of plan.

* * * * *

(b) Incorporation by reference.

(1) Material listed in paragraphs (c) and (d) of this section with an EPA approval date prior to February 1, 2024, was approved for incorporation by reference by the Director of the Federal Register in accordance with 5 U.S.C. 552(a) and 1 CFR part 51. Material is incorporated as it exists on the date of the approval and notification of any change in the material will be published in the Federal Register. Entries in paragraphs (c) and (d) of this section with EPA approval dates after February 1, 2024, will be incorporated by reference in the next update to the SIP compilation.

(2) EPA Region 10 certifies that the rules/regulations provided by the EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 10 EPA Office at 1200 Sixth Avenue, Suite 155, Seattle, WA 98101. To obtain the material, please call (206) 553-0256. You may inspect the material with an EPA approval date prior to February 1, 2024, for Washington at the National Archives and Records Administration (NARA). For information on the availability of this material at NARA email fedreg.legal@nara.gov or go to https://www.archives.gov/federal-register/cfr/ibr-locations.html.

(c) EPA-approved laws and regulations.

Table 1—Laws and Regulations Approved Statewide
[Not applicable in Indian reservations (excluding non-trust land within the exterior boundaries of the Puyallup Indian Reservation) and any other area where the EPA or an Indian tribe has demonstrated that a tribe has jurisdiction]
State citation | Title/subject | State effective date | EPA approval date | Explanations
Washington Administrative Code, Chapter 173-405— Kraft Pulping Mills
173-405-012 | Statement of Purpose | 3/22/91 | 1/15/93, 58 FR 4578 |
173-405-021 | Definitions | 5/24/19 | 2/26/20, 85 FR 10983 |
173-405-040 | Emissions Standards | 5/24/19 | 12/28/23, 88 FR 89582 | Except: 173-405-040(1)(b); 173-405-040(1)(c); 173-405-040(3)(b); 173-405-040(3)(c); 173-405-040(4); 173-405-040(6)(b).
173-405-045 | Creditable Stack Height & Dispersion Techniques | 3/22/91 | 1/15/93, 58 FR 4578 |
173-405-061 | More Restrictive Emission Standards | 3/22/91 | 1/15/93, 58 FR 4578 |
173-405-072 | Monitoring Requirements | 5/24/19 | 2/26/20, 85 FR 10983 | Except 173-405-072(2).
173-405-078 | Emission Inventory | 3/22/91 | 1/15/93, 58 FR 4578 |
173-405-086 | New Source Review (NSR) | 5/24/19 | 2/26/20, 85 FR 10983 | Except provisions related to WAC 173-400-114 and provisions excluded from our approval of WAC 173-400-110 through 173-400-113.
173-405-087 | Prevention of Significant Deterioration (PSD) | 5/24/19 | 2/26/20, 85 FR 10983 | Except 173-400-720(4)(a)(i through iv), 173-400-720(4)(b)(iii)(C), and 173-400-750(2) second sentence.
173-405-091 | Special Studies | 3/22/91 | 1/15/93, 58 FR 4578 |
Washington Administrative Code, Chapter 173-410—Sulfite Pulping Mills
173-410-012 | Statement of Purpose | 3/22/91 | 1/15/93, 58 FR 4578 |
173-410-021 | Definitions | 3/22/91 | 1/15/93, 58 FR 4578 |
173-410-040 | Emissions Standards | 5/24/19 | 12/28/23, 88 FR 89582 | Except: 173-410-040(3)(b); 173-410-040(5).
173-410-045 | Creditable Stack Height & Dispersion Techniques | 3/22/91 | 1/15/93, 58 FR 4578 |
173-410-062 | Monitoring Requirements | 5/24/19 | 2/26/20, 85 FR 10983 |
173-410-071 | Emission Inventory | 3/22/91 | 1/15/93, 58 FR 4578 |
173-410-086 | New Source Review (NSR) | 5/24/19 | 2/26/20, 85 FR 10983 | Except provisions related to WAC 173-400-114 and provisions excluded from our approval of WAC 173-400-110 through 173-400-113.
173-410-087 | Prevention of Significant Deterioration (PSD) | 5/24/19 | 2/26/20, 85 FR 10983 | Except 173-400-720(4)(a)(i through iv), 173-400-720(4)(b)(iii)(C), and 173-400-750(2) second sentence.
173-410-100 | Special Studies | 3/22/91 | 1/15/93, 58 FR 4578 |
Washington Administrative Code, Chapter 173-415—Primary Aluminum Plants
173-415-010 | Statement of Purpose | 3/22/91 | 1/15/93, 58 FR 4578 |
173-415-015 | Applicability | 5/24/19 | 2/26/20, 85 FR 10983 | Except 173-415-015(3).
173-415-020 | Definitions | 5/24/19 | 2/26/20, 85 FR 10983 | Except 173-415-020(6).
173-415-030 | Emissions Standards | 5/24/19 | 12/28/23, 88 FR 89582 | Except: 173-415-030(1); 173-415-030(3)(b).
173-415-060 | Monitoring and Reporting | 5/24/19 | 2/26/20, 85 FR 10983 | Except 173-415-060(1)(b).
Washington Administrative Code, Chapter 173-423—Low Emission Vehicles
173-423-010 | Purpose | 12/29/12 | 11/8/21, 86 FR 61705 |
173-423-020 | Applicability | 12/31/05 | 11/8/21, 86 FR 61705 |
173-423-025 | Effective Date | 12/31/05 | 11/8/21, 86 FR 61705 |
173-423-030 | Incorporation by Reference | 12/31/05 | 11/8/21, 86 FR 61705 |
173-423-040 | Definitions and Abbreviations | 12/29/12 | 11/8/21, 86 FR 61705 | Except 173-423-040(3).
173-423-050 | Requirement to Meet California Vehicle Emission Standards | 12/29/12 | 11/8/21, 86 FR 61705 | Except 173-423-050(2)(g).
173-423-060 | Exemptions | 12/29/12 | 11/8/21, 86 FR 61705 |
173-423-070 | Emission Standards, Warranty, Recall and Other California Provisions Adopted by Reference | 1/27/19 | 11/8/21, 86 FR 61705 | Except the incorporation by reference of California code sections 1961.1 and 1961.3.
173-423-080 | Fleet Average Nonmethane Organic Gas (NMOG) and NMOG Plus NOX Exhaust Emission Requirements, Reporting and Compliance | 12/29/12 | 11/8/21, 86 FR 61705 |
173-423-100 | Manufacturer Delivery Reporting Requirements | 12/29/12 | 11/8/21, 86 FR 61705 |
173-423-110 | Warranty Requirements | 12/29/12 | 11/8/21, 86 FR 61705 |
173-423-120 | Recalls | 12/29/12 | 11/8/21, 86 FR 61705 |
173-423-130 | Surveillance | 12/31/05 | 11/8/21, 86 FR 61705 |
173-423-140 | Enforcement | 12/31/05 | 11/8/21, 86 FR 61705 |
173-423-150 | Severability | 12/31/05 | 11/8/21, 86 FR 61705 |
Washington Administrative Code, Chapter 173-425—Open Burning
173-425-010 | Purpose | 10/18/90 | 1/15/93, 58 FR 4578 |
173-425-020 | Applicability | 10/18/90 | 1/15/93, 58 FR 4578 |
173-425-030 | Definitions | 10/18/90 | 1/15/93, 58 FR 4578 |
173-425-036 | Curtailment During Episodes or Impaired Air Quality | 10/18/90 | 1/15/93, 58 FR 4578 |
173-425-045 | Prohibited Materials | 1/3/89 | 1/15/93, 58 FR 4578 |
173-425-055 | Exceptions | 10/18/90 | 1/15/93, 58 FR 4578 |
173-425-065 | Residential Open Burning | 10/18/90 | 1/15/93, 58 FR 4578 |
173-425-075 | Commercial Open Burning | 10/18/90 | 1/15/93, 58 FR 4578 |
173-425-085 | Agricultural Open Burning | 10/18/90 | 1/15/93, 58 FR 4578 |
173-425-095 | No Burn Area Designation | 10/18/90 | 1/15/93, 58 FR 4578 |
173-425-100 | Delegation of Agricultural Open Burning Program | 10/18/90 | 1/15/93, 58 FR 4578 |
173-425-115 | Land Clearing Projects | 10/18/90 | 1/15/93, 58 FR 4578 |
173-425-120 | Department of Natural Resources Smoke Management Plan | 10/18/90 | 1/15/93, 58 FR 4578 |
173-425-130 | Notice of Violation | 10/18/90 | 1/15/93, 58 FR 4578 |
173-425-140 | Remedies | 10/18/90 | 1/15/93, 58 FR 4578 |
Washington Administrative Code, Chapter 173-430—Burning of Field and Forage and Turf Grasses Grown for Seed Open Burning
173-430-010 | Purpose | 10/18/90 | 1/15/93, 58 FR 4578 |
173-430-020 | Definitions | 10/18/90 | 1/15/93, 58 FR 4578 |
173-430-030 | Permits, Conditions, and Restrictions | 10/18/90 | 1/15/93, 58 FR 4578 |
173-430-040 | Mobile Field Burners | 10/18/90 | 1/15/93, 58 FR 4578 |
173-430-050 | Other Approvals | 10/18/90 | 1/15/93, 58 FR 4578 |
173-430-060 | Study of Alternatives | 10/18/90 | 1/15/93, 58 FR 4578 |
173-430-070 | Fees | 10/18/90 | 1/15/93, 58 FR 4578 |
173-430-080 | Certification of Alternatives | 10/18/90 | 1/15/93, 58 FR 4578 |
Washington Administrative Code, Chapter 173-433—Solid Fuel Burning Device Standards
173-433-010 | Purpose | 2/23/14 | 5/9/14, 79 FR 26628 |
173-433-020 | Applicability | 12/16/87 | 1/15/93, 58 FR 4578 |
173-433-030 | Definitions | 2/23/14 | 5/9/14, 79 FR 26628 |
173-433-100 | Emission Performance Standards | 2/23/14 | 5/9/14, 79 FR 26628 |
173-433-110 | Opacity Standards | 2/23/14 | 5/9/14, 79 FR 26628 |
173-433-120 | Prohibited Fuel Types | 2/23/14 | 5/9/14, 79 FR 26628 |
173-433-130 | General Emission Standards | 10/18/90 | 1/15/93, 58 FR 4578 |
173-433-140 | Criteria for Impaired Air Quality Burn Bans | 2/23/14 | 5/9/14, 79 FR 26628 |
173-433-150 | Restrictions on Operation of Solid Fuel Burning Devices | 2/23/14 | 5/9/14, 79 FR 26628 |
173-433-155 | Criteria for Prohibiting Solid Fuel Burning Devices That Are Not Certified | 2/23/14 | 5/9/14, 79 FR 26628 |
Washington Administrative Code, Chapter 173-434—Solid Waste Incinerator Facilities
173-434-010 | Purpose | 10/18/90 | 1/15/93, 58 FR 4578 |
173-434-020 | Applicability and Compliance | 1/22/04 | 8/4/05, 70 FR 44855 |
173-434-030 | Definitions | 1/22/04 | 8/4/05, 70 FR 44855 |
173-434-090 | Operation and Maintenance Plan | 10/18/90 | 1/15/93, 58 FR 4578 |
173-434-110 | Standards of Performance | 1/22/04 | 8/4/05, 70 FR 44855 | Except section (1)(a).
173-434-130 | Emission Standards | 1/22/04 | 8/4/05, 70 FR 44855 | Except section (2).
173-434-160 | Design and Operation | 1/22/04 | 8/4/05, 70 FR 44855 |
173-434-170 | Monitoring and Reporting | 1/22/04 | 8/4/05, 70 FR 44855 |
173-434-190 | Changes in Operation | 1/22/04 | 8/4/05, 70 FR 44855 |
173-434-200 | Emission Inventory | 1/22/04 | 8/4/05, 70 FR 44855 |
173-434-210 | Special Studies | 10/18/90 | 1/15/93, 58 FR 4578 |
Washington Administrative Code, Chapter 173-435—Emergency Episode Plan
173-435-010 | Purpose | 1/3/89 | 1/15/93, 58 FR 4578 |
173-435-015 | Significant Harm Levels | 1/3/89 | 1/15/93, 58 FR 4578 |
173-435-020 | Definitions | 1/3/89 | 1/15/93, 58 FR 4578 |
173-435-030 | Episode Stage Criteria | 1/3/89 | 1/15/93, 58 FR 4578 |
173-435-040 | Source Emission Reduction Plans | 1/3/89 | 1/15/93, 58 FR 4578 |
173-435-050 | Action Procedures | 1/3/89 | 1/15/93, 58 FR 4578 |
173-435-060 | Enforcement | 1/3/89 | 1/15/93, 58 FR 4578 |
173-435-070 | Sampling Sites, Equipment and Methods | 1/3/89 | 1/15/93, 58 FR 4578 | Except section (1).
Washington Administrative Code, Chapter 173-476—Ambient Air Quality Standards
173-476-010 | Purpose | 12/22/13 | 3/4/14, 79 FR 12077 |
173-476-020 | Applicability | 7/1/16 | 10/6/16, 81 FR 69385 |
173-476-030 | Definitions | 12/22/13 | 3/4/14, 79 FR 12077 |
173-476-100 | Ambient Air Quality Standard for PM-10 | 12/22/13 | 3/4/14, 79 FR 12077 |
173-476-110 | Ambient Air Quality Standards for PM-2.5 | 12/22/13 | 3/4/14, 79 FR 12077 |
173-476-120 | Ambient Air Quality Standard for Lead (Pb) | 12/22/13 | 3/4/14, 79 FR 12077 |
173-476-130 | Ambient Air Quality Standards for Sulfur Oxides (Sulfur Dioxide) | 12/22/13 | 3/4/14, 79 FR 12077 |
173-476-140 | Ambient Air Quality Standards for Nitrogen Oxides (Nitrogen Dioxide) | 12/22/13 | 3/4/14, 79 FR 12077 |
173-476-150 | Ambient Air Quality Standard for Ozone | 7/1/16 | 10/6/16, 81 FR 69385 |
173-476-160 | Ambient Air Quality Standards for Carbon Monoxide | 12/22/13 | 3/4/14, 79 FR 12077 |
173-476-170 | Monitor Siting Criteria | 12/22/13 | 3/4/14, 79 FR 12077 |
173-476-180 | Reference Conditions | 12/22/13 | 3/4/14, 79 FR 12077 |
173-476-900 | Table of Standards | 7/1/16 | 10/6/16, 81 FR 69385 |
Washington Administrative Code, Chapter 173-490—Emission Standards and Controls for Sources Emitting Volatile Organic Compounds
173-490-010 | Policy and Purpose | 3/22/91 | 7/12/93, 58 FR 37426 |
173-490-020 | Definitions | 3/22/91 | 7/12/93, 58 FR 37426 |
173-490-025 | General Applicability | 3/22/91 | 7/12/93, 58 FR 37426 |
173-490-030 | Registration and Reporting | 3/22/91 | 7/12/93, 58 FR 37426 |
173-490-040 | Requirements | 3/22/91 | 7/12/93, 58 FR 37426 |
173-490-080 | Exceptions and Alternative Methods | 3/22/91 | 7/12/93, 58 FR 37426 |
173-490-090 | New Source Review (NSR) | 3/22/91 | 7/12/93, 58 FR 37426 |
173-490-200 | Petroleum Refinery Equipment Leaks | 3/22/91 | 7/12/93, 58 FR 37426 |
173-490-201 | Petroleum Liquid Storage in External Floating Roof Tanks | 3/22/91 | 7/12/93, 58 FR 37426 |
173-490-202 | Leaks from Gasoline Transport Tanks and Vapor Collection System | 3/22/91 | 7/12/93, 58 FR 37426 |
173-490-203 | Perchloroethylene Dry Cleaning Systems | 3/22/91 | 7/12/93, 58 FR 37426 |
173-490-204 | Graphic Arts System | 3/22/91 | 7/12/93, 58 FR 37426 |
173-490-205 | Surface Coating of Miscellaneous Metal Parts and Products | 3/22/91 | 7/12/93, 58 FR 37426 |
173-490-207 | Surface Coating of Flatwood Paneling | 3/22/91 | 7/12/93, 58 FR 37426 |
173-490-208 | Aerospace Assembly and Component Coating Operations | 3/22/91 | 7/12/93, 58 FR 37426 |
Washington Administrative Code, Chapter 173-492—Motor Fuel Specifications for Oxygenated Gasoline
173-492-010 | Policy and Purpose | 10/19/96 | 4/30/97, 62 FR 23363 |
173-492-020 | Applicability | 12/1/92 | 4/30/97, 62 FR 23363 |
173-492-030 | Definitions | 12/1/92 | 4/30/97, 62 FR 23363 |
173-492-040 | Compliance Requirements | 12/1/92 | 4/30/97, 62 FR 23363 |
173-492-050 | Registration Requirements | 10/19/96 | 4/30/97, 62 FR 23363 |
173-492-060 | Labeling Requirements | 12/1/92 | 4/30/97, 62 FR 23363 |
173-492-070 | Control Areas and Control Periods | 10/19/96 | 4/30/97, 62 FR 23363 |
173-492-080 | Enforcement and Compliance | 12/1/92 | 4/30/97, 62 FR 23363 |
173-492-090 | Unplanned Conditions | 12/1/92 | 4/30/97, 62 FR 23363 |
173-492-100 | Severability | 12/1/92 | 4/30/97, 62 FR 23363 |
Washington Administrative Code, Chapter 332-24—Forest Protection
332-24-201 | Burning Permit Program—Requirements and Exceptions | 6/30/92 | 8/10/23, 88 FR 54240 |
332-24-205 | General rules—Minimum Requirements for All Burning | 11/22/19 | 8/10/23, 88 FR 54240 | Except section (13).
332-24-211 | Specific rules for small fires not requiring a written burning permit | 7/31/92 | 8/10/23, 88 FR 54240 | Included for the purpose of setting the size limit for burns covered by the Department of Natural Resources 2022 Smoke Management Plan in paragraph (e), Table 2.
332-24-217 | Burning permit requirements—Penalty | 7/31/92 | 8/10/23, 88 FR 54240 |
332-24-221 | Specific Rules for Burning That Requires a Written Burning Permit | 2/1/12 | 8/10/23, 88 FR 54240 |
Revised Code of Washington, Chapter 52.12—Fire Protection Districts, Powers—Burning Permits
52.12.103 | Burning permits—Issuance—Contents | 3/27/84 | 8/10/23, 88 FR 54240 |
52.12.104 | Burning permits—Duties of permittee | 3/27/84 | 8/10/23, 88 FR 54240 |
Revised Code of Washington, Chapter 70A.15—Washington Clean Air Act
70A.15.1030(21) | Definitions. “Silvicultural burning” | 6/11/20 | 8/10/23, 88 FR 54240 |
70A.15.5000 | Definition of “outdoor burning.” | 7/26/20 | 8/10/23, 88 FR 54240 |
70A.15.5010 | Outdoor burning—Fires prohibited—Exceptions | 6/11/20 | 8/10/23, 88 FR 54240 | Except (1).
70A.15.5020 | Outdoor burning—Areas where prohibited—Exceptions—Use for management ofstorm or flood-related debris—Silvicultural burning | 6/11/20 | 8/10/23, 88 FR 54240 | Except (3).
70A.15.5120 | Burning permits for abating or prevention of forest fire hazards, management of ecosystems, instruction or silvicultural operations-issuance-Fees | 6/11/20 | 8/10/23, 88 FR 54240 |
70A.15.5130 | Silvicultural forest burning—Reduce statewide emissions—Exemption—Monitoring program | 7/28/19 | 8/10/23, 88 FR 54240 |
70A.15.5140 | Burning permits for abating or prevention of forest fire hazards, management of ecosystems, instruction or silvicultural operations—Conditions for issuance and use of permits—Air quality standards to be met—Alternate methods to lessen forest debris | 6/11/20 | 8/10/23, 88 FR 54240 |
70A.15.5150 | Cooperation between department of natural resources and state, local, or regional air pollution authorities—Withholding of permits | 6/11/20 | 8/10/23, 88 FR 54240 |
70A.15.5190 | Outdoor burning allowed for managing storm or flood-related debris | 6/11/20 | 8/10/23, 88 FR 54240 |
Revised Code of Washington, Chapter 76.04—Forest Protection
76.04.005 | Definitions. | 7/24/15 | 8/10/23, 88 FR 54240 | Except (2), (3), (4), (6), (7), (8), (10), (14), (16), (17), (19), (22).
76.04.205 | Burning Permits—Civil Penalty. | 7/25/21 | 8/10/23, 88 FR 54240 |

Table 2—Additional Regulations Approved for Washington Department of Ecology (Ecology) Direct Jurisdiction
[Applicable in Adams, Asotin, Chelan, Columbia, Douglas, Ferry, Franklin, Garfield, Grant, Kittitas, Klickitat, Lincoln, Okanogan, Pend Oreille, San Juan, Stevens, Walla Walla, and Whitman counties, excluding facilities subject to Energy Facilities Site Evaluation Council (EFSEC) jurisdiction, Indian reservations (excluding non-trust land within the exterior boundaries of the Puyallup Indian Reservation), and any other area where the EPA or an Indian tribe has demonstrated that a tribe has jurisdiction. These regulations also apply statewide for facilities subject to the applicability sections of WAC 173-400-700, 173-405-012, 173-410-012, and 173-415-012.]
State citation | Title/subject | State effective date | EPA approval date | Explanations
Washington Administrative Code, Chapter 173-400—General Regulations for Air Pollution Sources
173-400-010 | Policy and Purpose | 3/22/91 | 6/2/95, 60 FR 28726 |
173-400-020 | Applicability | 12/29/12 | 10/3/14, 79 FR 59653 |
173-400-025 | Adoption of Federal Rules | 9/16/18 | 2/24/20, 85 FR 10301 |
173-400-030 | Definitions | 9/16/18 | 12/28/23, 88 FR 89582 | Except: 173-400-030(96).
173-400-036 | Relocation of Portable Sources | 12/29/12 | 4/29/15, 80 FR 23721 |
173-400-040 | General Standards for Maximum Emissions | 9/16/18 | 2/24/20, 85 FR 10301 | Except: 173-400-040(2); 173-400-040(3); 173-400-040(5).
173-400-040(2) | General Standards for Maximum Emissions | 7/1/16 | 10/6/16, 81 FR 69385 | Except: 173-400-040(2)(c); 173-400-040(2)(d).
173-400-050 | Emission Standards for Combustion and Incineration Units | 9/16/18 | 2/24/20, 85 FR 10301 | Except: 173-400-050(2); 173-400-050(4); 173-400-050(5); 173-400-050(6).
173-400-060 | Emission Standards for General Process Units | 11/25/18 | 2/24/20, 85 FR 10301 |
173-400-070 | Emission Standards for Certain Source Categories | 9/16/18 | 12/28/23, 88 FR 89582 | Except: 173-400-070(5); 173-400-070(6); 173-400-070(7).
173-400-081 | Emissions Limits During Startup and Shutdown | 9/16/18 | 12/28/23, 88 FR 89582 |
173-400-082 | Alternative Emissions Limit That Exceeds an Emission Standard in the SIP | 9/16/18 | 12/28/23, 88 FR 89582 |
173-400-091 | Voluntary Limits on Emissions | 4/1/11 | 10/3/14, 79 FR 59653 | 9/20/93 version continues to be approved under the authority of CAA section 112(l) with respect to section 112 hazardous air pollutants. See 60 FR 28726 (June 2, 1995)
173-400-105 | Records, Monitoring, and Reporting | 11/25/18 | 2/24/20, 85 FR 10301 |
173-400-110 | New Source Review (NSR) for Sources and Portable Sources | 12/29/12 | 9/29/16, 81 FR 66823 | Except: 173-400-110(1)(c)(ii)(C); 173-400-110(1)(e); 173-400-110(2)(d);
|  |  |  | The part of WAC 173-400-110(4)(b)(vi) that says,
|  |  |  | • “not for use with materials containing toxic air pollutants, as listed in chapter 173-460 WAC,”;
|  |  |  | The part of 400-110 (4)(e)(iii) that says,
|  |  |  | • “where toxic air pollutants as defined in chapter 173-460 WAC are not emitted”;
|  |  |  | The part of 400-110(4)(f)(i) that says,
|  |  |  | • “that are not toxic air pollutants listed in chapter 173-460 WAC”;
|  |  |  | The part of 400-110 (4)(h)(xviii) that says,
|  |  |  | • “, to the extent that toxic air pollutant gases as defined in chapter 173-460 WAC are not emitted”;
|  |  |  | The part of 400-110 (4)(h)(xxxiii) that says,
|  |  |  | • “where no toxic air pollutants as listed under chapter 173-460 WAC are emitted”;
|  |  |  | The part of 400-110(4)(h)(xxxiv) that says,
|  |  |  | • “, or ≤ 1% (by weight) toxic air pollutants as listed in chapter 173-460 WAC”;
|  |  |  | The part of 400-110(4)(h)(xxxv) that says,
|  |  |  | • “or ≤ 1% (by weight) toxic air pollutants”;
|  |  |  | The part of 400-110(4)(h)(xxxvi) that says,
|  |  |  | • “or ≤ 1% (by weight) toxic air pollutants as listed in chapter 173-460 WAC”;
|  |  |  | 400-110(4)(h)(xl) , second sentence;
|  |  |  | The last row of the table in 173-400-110(5)(b) regarding exemption levels for Toxic Air Pollutants.
173-400-111 | Processing Notice of Construction Applications for Sources, Stationary Sources and Portable Sources | 7/1/16 | 10/6/16, 81 FR 69385 | Except: 173-400-111(3)(h); The part of 173-400-111(8)(a)(v) that says, • “and 173-460-040,”; 173-400-111(9).
173-400-112 | Requirements for New Sources in Nonattainment Areas—Review for Compliance with Regulations | 12/29/12 | 9/29/16, 81 FR 66823 |
173-400-113 | New Sources in Attainment or Unclassifiable Areas—Review for Compliance with Regulations | 12/29/12 | 4/29/15, 80 FR 23721 | Except: 173-400-113(3), second sentence.
173-400-116 | Increment Protection | 7/1/16 | 10/6/16, 81 FR 69385 |
173-400-117 | Special Protection Requirements for Federal Class I Areas | 12/29/12 | 4/29/15, 80 FR 23721 |
173-400-118 | Designation of Class I, II, and III Areas | 12/29/12 | 10/3/14, 79 FR 59653 |
173-400-131 | Issuance of Emission Reduction Credits | 4/1/11 | 11/7/14, 79 FR 66291 |
173-400-136 | Use of Emission Reduction Credits (ERC) | 12/29/12 | 11/7/14, 79 FR 66291 |
173-400-151 | Retrofit Requirements for Visibility Protection | 2/10/05 | 10/3/14, 79 FR 59653 |
173-400-161 | Compliance Schedules | 3/22/91 | 6/2/95, 60 FR 28726 |
173-400-171 | Public Notice and Opportunity for Public Comment | 9/16/18 | 12/28/23, 88 FR 89582 | Except: The part of 173-400-171(3)(b) that says, • “or any increase in emissions of a toxic air pollutant above the acceptable source impact level for that toxic air pollutant as regulated under chapter 173-460 WAC”; 173-400-171(12).
173-400-175 | Public Information | 2/10/05 | 10/3/14, 79 FR 59653 |
173-400-190 | Requirements for Nonattainment Areas | 3/22/91 | 6/2/95, 60 FR 28726 |
173-400-200 | Creditable Stack Height and Dispersion Techniques | 2/10/05 | 10/3/14, 79 FR 59653 |
173-400-205 | Adjustment for Atmospheric Conditions | 3/22/91 | 6/2/95, 60 FR 28726 |
173-400-210 | Emission Requirements of Prior Jurisdictions | 3/22/91 | 6/2/95, 60 FR 28726 |
173-400-560 | General Order of Approval | 12/29/12 | 4/29/15, 80 FR 23721 | Except: The part of 173-400-560(1)(f) that says, “173-460 WAC”.
173-400-700 | Review of Major Stationary Sources of Air Pollution | 4/1/11 | 4/29/15, 80 FR 23721 |
173-400-710 | Definitions | 7/1/16 | 10/6/16, 81 FR 69385 |
173-400-720 | Prevention of Significant Deterioration (PSD) | 7/1/16 | 10/6/16, 81 FR 69385 | Except: 173-400-720(4)(a)(i through iv) and 173-400-720(4)(b)(iii)(C).
173-400-730 | Prevention of Significant Deterioration Application Processing Procedures | 7/1/16 | 10/6/16, 81 FR 69385 |
173-400-740 | PSD Permitting Public Involvement Requirements | 9/16/18 | 2/24/20, 85 FR 10301 |
173-400-750 | Revisions to PSD Permits | 12/29/12 | 4/29/15, 80 FR 23721 | Except: 173-400-750(2) second sentence.
173-400-800 | Major Stationary Source and Major Modification in a Nonattainment Area | 4/1/11 | 11/7/14, 79 FR 66291 |
173-400-810 | Major Stationary Source and Major Modification Definitions | 7/1/16 | 10/6/16, 81 FR 69385 |
173-400-820 | Determining if a New Stationary Source or Modification to a Stationary Source is Subject to these Requirements | 12/29/12 | 11/7/14, 79 FR 66291 |
173-400-830 | Permitting Requirements | 7/1/16 | 10/6/16, 81 FR 69385 |
173-400-840 | Emission Offset Requirements | 7/1/16 | 10/6/16, 81 FR 69385 |
173-400-850 | Actual Emissions Plantwide Applicability Limitation (PAL) | 7/1/16 | 10/6/16, 81 FR 69385 |
173-400-860 | Public Involvement Procedures | 4/1/11 | 11/7/14, 79 FR 66291 |

Table 3—Additional Regulations Approved for the Energy Facilities Site Evaluation Council (EFSEC) Jurisdiction
[See the SIP-approved provisions of WAC 463-78-020 for jurisdictional applicability]
State citation | Title/subject | State effective date | EPA approval date | Explanations
Washington Administrative Code, Chapter 463-78—General and Operating Permit Regulations for Air Pollution Sources
78-005 | Adoption by Reference | 8/26/19 | 1/24/20, 85 FR 4233 | Subsection (1) only. See below for the updated Chapter 173-400 WAC provisions adopted by reference and submitted to the EPA for approval.
78-010 | Purpose | 8/27/15 | 5/30/17, 82 FR 24531 |
78-020 | Applicability | 11/11/04 | 5/30/17, 82 FR 24531 |
78-030 | Additional Definitions | 8/27/15 | 5/30/17, 82 FR 24531 | Except references to 173-401-200 and 173-406-101.
78-095 | Permit Issuance | 8/27/15 | 5/30/17, 82 FR 24531 |
78-120 | Monitoring and Special Report | 11/11/04 | 5/30/17, 82 FR 24531 |
Washington Administrative Code, Chapter 173-400 Regulations Incorporated by Reference in WAC 463-78-005
173-400-025 | Adoption of Federal Rules | 9/16/18 | 1/24/20, 85 FR 4233 |
173-400-030 | Definitions | 9/16/18 | 1/24/20, 85 FR 4233 | Except: 173-400-030(6); 173-400-030(32); 173-400-030(38); 173-400-030(45); 173-400-030(83); 173-400-030(89); 173-400-030(96); 173-400-030(97); 173-400-030(100); 173-400-030(103); 173-400-030(104).
173-400-030(30) & (36). | Definitions | 12/29/12 | 5/30/17, 82 FR 24531 |
173-400-036 | Relocation of Portable Sources | 12/29/12 | 5/30/17, 82 FR 24531 |
173-400-040 | General Standards for Maximum Emissions | 9/16/18 | 1/24/20, 85 FR 4233 | Except: 173-400-040(2); 173-400-040(3); 173-400-040(5).
173-400-040(2) | General Standards for Maximum Emissions | 4/1/11 | 5/30/17, 82 FR 24531 | Except: 173-400-040(2)(c); 173-400-040(2)(d).
173-400-050 | Emission Standards for Combustion and Incineration Units | 9/16/18 | 1/24/20, 85 FR 4233 | Except: 173-400-050(2); 173-400-050(4); 173-400-050(5); 173-400-050(6).
173-400-060 | Emission Standards for General Process Units | 11/25/18 | 1/24/20, 85 FR 4233 |
173-400-070 | Emission Standards for Certain Source Categories | 12/29/12 | 5/30/17, 82 FR 24531 | Except: 173-400-070(1); 173-400-070(2); 173-400-070(3); 173-400-070(4); 173-400-070(6); 173-400-070(7); 173-400-070(8).
173-400-081 | Startup and Shutdown | 4/1/11 | 5/30/17, 82 FR 24531 |
173-400-091 | Voluntary Limits on Emissions | 4/1/11 | 5/30/17, 82 FR 24531 |
173-400-105 | Records, Monitoring, and Reporting | 11/25/18 | 1/24/20, 85 FR 4233 |
173-400-107 | Excess Emissions | 9/20/93 | 6/2/95, 60 FR 28726 |
173-400-110 | New Source Review (NSR) for Sources and Portable Sources | 12/29/12 | 5/30/17, 82 FR 24531 | Except: 173-400-110(1)(c)(ii)(C); 173-400-110(1)(e); 173-400-110(2)(d); The part of WAC 173-400-110(4)(b)(vi) that says, “not for use with materials containing toxic air pollutants, as listed in chapter 173-460 WAC,”; The part of 400-110(4)(e)(iii) that says, “where toxic air pollutants as defined in chapter 173-460 WAC are not emitted”; The part of 400-110(4)(f)(i) that says, “that are not toxic air pollutants listed in chapter 173-460 WAC”; The part of 400-110(4)(h)(xviii) that says, “, to the extent that toxic air pollutant gases as defined in chapter 173-460 WAC are not emitted”; The part of 400-110(4)(h)(xxxiii) that says, “where no toxic air pollutants as listed under chapter 173-460 WAC are emitted”; The part of 400-110(4)(h)(xxxiv) that says, “, or ≤ 1% (by weight) toxic air pollutants as listed in chapter 173-460 WAC”; The part of 400-110(4)(h)(xxxv) that says, “or ≤ 1% (by weight) toxic air pollutants”; The part of 400-110(4)(h)(xxxvi) that says, “or ≤ 1% (by weight) toxic air pollutants as listed in chapter 173-460 WAC”; 400-110(4)(h)(xl) , second sentence; The last row of the table in 173-400-110(5)(b) regarding exemption levels for Toxic Air Pollutants.
173-400-111 | Processing Notice of Construction Applications for Sources, Stationary Sources and Portable Sources | 7/1/16 | 1/24/20, 85 FR 4233 | Except: 173-400-111(3)(h); The part of 173-400-111(8)(a)(v) that says, • “and 173-460-040,”; 173-400-111(9).
173-400-112 | Requirements for New Sources in Nonattainment Areas—Review for Compliance with Regulations | 12/29/12 | 5/30/17, 82 FR 24531 |
173-400-113 | New Sources in Attainment or Unclassifiable Areas—Review for Compliance with Regulations | 12/29/12 | 5/30/17, 82 FR 24531 | Except: 173-400-113(3), second sentence.
173-400-116 | Increment Protection | 7/1/16 | 1/24/20, 85 FR 4233 |
173-400-117 | Special Protection Requirements for Federal Class I Areas | 12/29/12 | 5/30/17, 82 FR 24531 |
173-400-131 | Issuance of Emission Reduction Credits | 4/1/11 | 5/30/17, 82 FR 24531 |
173-400-136 | Use of Emission Reduction Credits (ERC) | 4/1/11 | 5/30/17, 82 FR 24531 |
173-400-161 | Compliance Schedules | 3/22/91 | 6/2/95, 60 FR 28726 |
173-400-171 | Public Notice and Opportunity for Public Comment | 9/16/18 | 1/24/20, 85 FR 4233 | Except: The part of 173-400-171(3)(b) that says, • “or any increase in emissions of a toxic air pollutant above the acceptable source impact level for that toxic air pollutant as regulated under chapter 173-460 WAC”; 173-400-171(3)(o); 173-400-171(12).
173-400-175 | Public Information | 2/10/05 | 5/30/17, 82 FR 24531 |
173-400-190 | Requirements for Nonattainment Areas | 3/22/91 | 6/2/95, 60 FR 28726 |
173-400-200 | Creditable Stack Height and Dispersion Techniques | 2/10/05 | 5/30/17, 82 FR 24531 |
173-400-205 | Adjustment for Atmospheric Conditions | 3/22/91 | 6/2/95, 60 FR 28726 |
173-400-700 | Review of Major Stationary Sources of Air Pollution | 4/1/11 | 5/30/17, 82 FR 24531 |
173-400-710 | Definitions | 7/1/16 | 1/24/20, 85 FR 4233 |
173-400-720 | Prevention of Significant Deterioration (PSD) | 7/1/16 | 1/24/20, 85 FR 4233 | Except: 173-400-720(4)(a)(i through iv) and 173-400-720(4)(b)(iii)(C).
173-400-730 | Prevention of Significant Deterioration Application Processing Procedures | 7/1/16 | 1/24/20, 85 FR 4233 |
173-400-740 | PSD Permitting Public Involvement Requirements | 9/16/18 | 1/24/20, 85 FR 4233 |
173-400-750 | Revisions to PSD Permits | 12/29/12 | 5/30/17, 82 FR 24531 | Except: 173-400-750(2) second sentence.
173-400-800 | Major Stationary Source and Major Modification in a Nonattainment Area | 4/1/11 | 5/30/17, 82 FR 24531 |
173-400-810 | Major Stationary Source and Major Modification Definitions | 7/1/16 | 1/24/20, 85 FR 4233 |
173-400-820 | Determining if a New Stationary Source or Modification to a Stationary Source is Subject to these Requirements | 12/29/12 | 5/30/17, 82 FR 24531 |
173-400-830 | Permitting Requirements | 7/1/16 | 1/24/20, 85 FR 4233 |
173-400-840 | Emission Offset Requirements | 7/1/16 | 1/24/20, 85 FR 4233 |
173-400-850 | Actual Emissions Plantwide Applicability Limitation (PAL) | 7/1/16 | 1/24/20, 85 FR 4233 |
173-400-860 | Public Involvement Procedures | 4/1/11 | 5/30/17, 82 FR 24531 |

Table 4—Additional Regulations Approved for the Benton Clean Air Agency (BCAA) Jurisdiction
[Applicable in Benton County, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Benton Clean Air Agency (BCAA) Regulations
Regulation 1
1.01 | Name of Agency | 12/11/14 | 11/17/15, 80 FR 71695 |
1.02 | Policy and Purpose | 12/11/14 | 11/17/15, 80 FR 71695 | Replaces WAC 173-400-010.
1.03 | Applicability | 12/11/14 | 11/17/15, 80 FR 71695 | Replaces WAC 173-400-020.
4.01(A) | Definitions—Fugitive Dust | 12/11/14 | 2/24/20, 85 FR 10301 | Replaces WAC 173-400-030(40).
4.01(B) | Definitions—Fugitive Emissions | 12/11/14 | 2/24/20, 85 FR 10301 | Replaces WAC 173-400-030(41).
4.02(B) | Particulate Matter Emissions—Fugitive Emissions | 12/11/14 | 11/17/15, 80 FR 71695 | Replaces WAC 173-400-040(4).
4.02(C)(1) | Particulate Matter Emissions—Fugitive Dust | 12/11/14 | 11/17/15, 80 FR 71695 | Replaces WAC 173-400-040(9)(a).
4.02(C)(3) | Particulate Matter Emissions—Fugitive Dust | 12/11/14 | 11/17/15, 80 FR 71695 | Replaces WAC 173-400-040(9)(b).
Washington Department of Ecology Regulations
Washington Administrative Code, Chapter 173-400—General Regulations for Air Pollution Sources
173-400-025 | Adoption of Federal Rules | 9/16/18 | 2/24/20, 85 FR 10301 |
173-400-030 | Definitions | 9/16/18 | 12/28/23, 88 FR 89582 | Except: 173-400-030(40); 173-400-030(41); 173-400-030(96).
173-400-036 | Relocation of Portable Sources | 12/29/12 | 11/17/15, 80 FR 71695 |
173-400-040 | General Standards for Maximum Emissions | 9/16/18 | 2/24/20, 85 FR 10301 | Except: 173-400-040(2);173-400-040(3);173-400-040(4);173-400-040(5);173-400-040(9).
173-400-040(2) | General Standards for Maximum Emissions | 7/1/16 | 10/6/16, 81 FR 69385 | Except: 173-400-040(2)(c); 173-400-040(2)(d).
173-400-050 | Emission Standards for Combustion and Incineration Units | 9/16/18 | 2/24/20, 85 FR 10301 | Except: 173-400-050(2);173-400-050(4);173-400-050(5);173-400-050(6).
173-400-060 | Emission Standards for General Process Units | 11/25/18 | 2/24/20, 85 FR 10301 |
173-400-070 | Emission Standards for Certain Source Categories | 9/16/18 | 12/28/23, 88 FR 89582 | Except: 173-400-070(5);173-400-070(6);173-400-070(7).
173-400-081 | Emissions Limits During Startup and Shutdown | 9/16/18 | 12/28/23, 88 FR 89582 |
173-400-082 | Alternative Emissions Limit That Exceeds an Emission Standard in the SIP | 9/16/18 | 12/28/23, 88 FR 89582 |
173-400-091 | Voluntary Limits on Emissions | 4/1/11 | 11/17/15, 80 FR 71695 |
173-400-105 | Records, Monitoring and Reporting | 11/25/18 | 2/24/20, 85 FR 10301 |
173-400-110 | New Source Review (NSR) for Sources and Portable Sources | 12/29/12 | 9/29/16, 81 FR 66823 | Except: 173-400-110(1)(c)(ii)(C);173-400-110(1)(e);173-400-110(2)(d); — The part of WAC 173-400-110(4)(b)(vi) that says, “not for use with materials containing toxic air pollutants, as listed in chapter 173-460 WAC,”; — The part of 400-110(4)(e)(iii) that says, “where toxic air pollutants as defined in chapter 173-460 WAC are not emitted”; The part of 400-110(4)(f)(i) that says, “that are not toxic air pollutants listed in chapter 173-460 WAC”; — The part of 400-110(4)(h)(xviii) that says, “, to the extent that toxic air pollutant gases as defined in chapter 173-460 WAC are not emitted”; — The part of 400-110(4)(h)(xxxiii) that says, “where no toxic air pollutants as listed under chapter 173-460 WAC are emitted”; — The part of 400-110(4)(h)(xxxiv) that says, “, or ≤1% (by weight) toxic air pollutants as listed in chapter 173-460 WAC”; The part of 400-110(4)(h)(xxxv) that says, “or ≤1% (by weight) toxic air pollutants”; — The part of 400-110(4)(h)(xxxvi) that says, “or ≤ 1% (by weight) toxic air pollutants as listed in chapter 173-460 WAC”; 400-110(4)(h)(xl), second sentence; —The last row of the table in 173-400-110(5)(b) regarding exemption levels for Toxic Air Pollutants.
173-400-111 | Processing Notice of Construction Applications for Sources, Stationary Sources and Portable Sources | 7/1/16 | 10/6/16, 81 FR 69385 | Except: 173-400-111(3)(h); — The part of 173-400-111(8)(a)(v) that says, “and 173-460-040,”;173-400-111(9).
173-400-112 | Requirements for New Sources in Nonattainment Areas—Review for Compliance with Regulations | 12/29/12 | 9/29/16, 81 FR 66823 |
173-400-113 | New Sources in Attainment or Unclassifiable Areas—Review for Compliance with Regulations | 12/29/12 | 11/17/15, 80 FR 71695 | Except: 173-400-113(3), second sentence.
173-400-117 | Special Protection Requirements for Federal Class I Areas | 12/29/12 | 11/17/15, 80 FR 71695 | Except facilities subject to the applicability provisions of WAC 173-400-700.
173-400-118 | Designation of Class I, II, and III Areas | 12/29/12 | 11/17/15, 80 FR 71695 |
173-400-131 | Issuance of Emission Reduction Credits | 4/1/11 | 11/17/15, 80 FR 71695 |
173-400-136 | Use of Emission Reduction Credits (ERC) | 12/29/12 | 11/17/15, 80 FR 71695 |
173-400-151 | Retrofit Requirements for Visibility Protection | 2/10/05 | 11/17/15, 80 FR 71695 |
173-400-161 | Compliance Schedules | 3/22/91 | 6/2/95, 60 FR 28726 |
173-400-171 | Public Notice and Opportunity for Public Comment | 9/16/18 | 12/28/23, 88 FR 89582 | Except: The part of 173-400-171(3)(b) that says, • “or any increase in emissions of a toxic air pollutant above the acceptable source impact level for that toxic air pollutant as regulated under chapter 173-460 WAC”; 173-400-171(12).
173-400-175 | Public Information | 2/10/05 | 11/17/15, 80 FR 71695 |
173-400-190 | Requirements for Nonattainment Areas | 3/22/91 | 6/2/95, 60 FR 28726 |
173-400-200 | Creditable Stack Height & Dispersion Techniques | 2/10/05 | 11/17/15, 80 FR 71695 |
173-400-205 | Adjustment for Atmospheric Conditions | 3/22/91 | 6/2/95, 60 FR 28726 |
173-400-210 | Emission Requirements of Prior Jurisdictions | 3/22/91 | 6/2/95, 60 FR 28726 |
173-400-560 | General Order of Approval | 12/29/12 | 11/17/15, 80 FR 71695 | Except: — The part of 173-400-560(1)(f) that says, “173-460 WAC”.
173-400-800 | Major Stationary Source and Major Modification in a Nonattainment Area | 4/1/11 | 11/17/15, 80 FR 71695 |
173-400-810 | Major Stationary Source and Major Modification Definitions | 7/1/16 | 10/6/16, 81 FR 69385 |
173-400-820 | Determining if a New Stationary Source or Modification to a Stationary Source is Subject to these Requirements | 12/29/12 | 11/17/15, 80 FR 71695 |
173-400-830 | Permitting Requirements | 7/1/16 | 10/6/16, 81 FR 69385 |
173-400-840 | Emission Offset Requirements | 7/1/16 | 10/6/16, 81 FR 69385 |
173-400-850 | Actual Emissions Plantwide Applicability Limitation (PAL) | 7/1/16 | 10/6/16, 81 FR 69385 |
173-400-860 | Public Involvement Procedures | 4/1/11 | 11/17/15, 80 FR 71695 |

Table 5—Additional Regulations Approved for the Northwest Clean Air Agency (NWCAA) Jurisdiction
[Applicable in Island, Skagit and Whatcom counties, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Northwest Clean Air Agency Regulations
General Provisions
100 | Name of Agency | 8/21/05 | 6/15/20, 85 FR 36154 |
101 | Short Title | 8/21/05 | 6/15/20, 85 FR 36154 |
102 | Policy | 8/21/05 | 6/15/20, 85 FR 36154 | Except provisions outside the scope of CAA section 110. Replaces WAC 173-400-010.
121 | Orders | 9/8/93 | 2/22/95, 60 FR 9778 |
150 | Pollutant Disclosure—Reporting by Air Containment Sources | 9/8/93 | 2/22/95, 60 FR 9778 |
180 | Sampling and Analytical Methods/References | 9/8/93 | 2/22/95, 60 FR 9778 |
Definitions
200 | Definitions | 5/12/19 | 6/15/20, 85 FR 36154 | Except the definitions Toxic Air Pollutant, Odor, and Odor Source. Generally replaces WAC 173-400-030. However, for definitions not included in section 200, the WAC 173-400-030 definitions in the table below shall apply.
Control Procedures
300 | New Source Review | 5/12/19 | 6/15/20, 85 FR 36154 | Except subsections 300.8(C), 300.25, or any provisions related to the regulation of Toxic Air Pollutants. Replaces WAC 173-400-036, 173-400-110, 173-400-111, 173-400-113, and 173-400-560, except certain subsections of WAC 173-400-111 and 173-400-113 listed in the table below.
305 | Public Involvement | 5/12/19 | 6/15/20, 85 FR 36154 | Except provisions related to the regulation of Toxic Air Pollutants. Replaces WAC 173-400-171 and WAC 173-400-175, except subsection 173-400-171(6)(b).
320 | Registration Program | 5/12/19 | 6/15/20, 85 FR 36154 | Except subsection 320.3 and provisions related to the regulation of Toxic Air Pollutants or odor.
321 | Exemptions from Registration | 5/12/19 | 6/15/20, 85 FR 36154 | Except subsection 321.3.
324 | Fees | 11/13/94 | 10/24/95, 60 FR 54439 | Except section 324.121.
325 | Transfer | 9/8/93 | 2/22/95, 60 FR 9778 |
340 | Report of Breakdown and Upset | 11/13/94 | 10/24/95, 60 FR 54439 |
341 | Schedule Report of Shutdown or Start-Up | 9/8/93 | 2/22/95, 60 FR 9778 |
342 | Operation and Maintenance | 9/8/93 | 2/22/95, 60 FR 9778 |
360 | Testing and Sampling | 9/8/93 | 2/22/95, 60 FR 9778 |
365 | Monitoring | 9/8/93 | 2/22/95, 60 FR 9778 |
366 | Instrument Calibration | 9/8/93 | 2/22/95, 60 FR 9778 |
Standards
450 | Emission Standards—Forward | 9/8/93 | 2/22/95, 60 FR 9778 |
451 | Emission of Air Contaminant- Visual Standards | 11/13/94 | 10/24/95, 60 FR 54439 |
452 | Motor Vehicle Visual Standards | 9/8/93 | 2/22/95, 60 FR 9778 | Except section 452.5.
455 | Emission of Particulate Matter | 9/8/93 | 2/22/95, 60 FR 9778 |
458 | Incinerators—Wood Waste Burners | 9/8/93 | 2/22/95, 60 FR 9778 |
460 | Weight/Heat Rate Standard—Emission of Sulfur Compounds | 9/8/93 | 2/22/95, 60 FR 9778 |
462 | Emission of Sulfur Compounds | 11/13/94 | 10/24/95, 60 FR 54439 |
466 | Portland Cement Plants | 9/8/93 | 2/22/95, 60 FR 9778 |
Regulated Activities and Prohibitions
510 | Incinerator Burning | 9/8/93 | 2/22/95, 60 FR 9778 |
520 | Sulfur Compounds in Fuel | 9/8/93 | 2/22/95, 60 FR 9778 |
550 | Particulate Matter from Becoming Airborne | 9/8/93 | 2/22/95, 60 FR 9778 |
560 | Storage of Organic Liquids | 9/8/93 | 2/22/95, 60 FR 9778 |
580 | Volatile Organic Compound Control (VOC) | 11/13/94 | 10/24/95, 60 FR 54439 |
Washington Department of Ecology Regulations
Washington Administrative Code, Chapter 173-400—General Regulations for Air Pollution Sources
173-400-020 | Applicability | 12/29/12 | 6/15/20, 85 FR 36154 |
173-400-025 | Adoption of Federal Rules | 9/16/18 | 6/15/20, 85 FR 36154 | Only as it applies to cross references in the WAC.
173-400-030 | Definitions | 9/16/18 | 6/15/20, 85 FR 36154 | Except: 173-400-030(6); 173-400-030(32); 173-400-030(38); 173-400-030(45); 173-400-030(83); 173-400-030(89); 173-400-030(96); 173-400-030(97); 173-400-030(100); 173-400-030(103); 173-400-030(104); or any definition included in NWCAA section 200.
173-400-040 | General Standards for Maximum Emissions | 3/22/91 | 6/2/95, 60 FR 28726 | Except (1)(c), and (1)(d), (2), (4), and the 2nd paragraph of (6).
173-400-050 | Emission Standards for Combustion and Incineration Units | 9/16/18 | 6/15/20, 85 FR 36154 | Except: 173-400-050(2); 173-400-050(4); 173-400-050(5); 173-400-050(6).
173-400-060 | Emission Standards for General Process Units | 11/25/18 | 6/15/20, 85 FR 36154 |
173-400-070 | Emission Standards for Certain Source Categories | 3/22/91 | 6/2/95, 60 FR 28726 | Except (7).
173-400-081 | Startup and Shutdown | 9/20/93 | 6/2/95, 60 FR 28726 |
173-400-091 | Voluntary Limits on Emissions | 4/1/11 | 6/15/20, 85 FR 36154 | 9/20/93 version continues to be approved under the authority of CAA Section 112(l) with respect to Section 112 hazardous air pollutants. See the Federal Register of June 2, 1995.
173-400-105 | Records, Monitoring and Reporting | 9/20/93 | 6/2/95, 60 FR 28726 |
173-400-107 | Excess Emissions | 9/20/93 | 6/2/95, 60 FR 28726 |
173-400-111 | Processing Notice of Construction Applications for Sources, Stationary Sources and Portable Sources | 7/1/16 | 6/15/20, 85 FR 36154 | Only subsections (1)(c), (1)(d), (5)(b), and (7)(b), otherwise NWCAA section 300 applies.
173-400-112 | Requirements for New Sources in Nonattainment Areas—Review for Compliance with Regulations | 12/29/12 | 6/15/20, 85 FR 36154 | The cross reference to WAC 173-400-113(3) is interpreted to be NWCAA section 300.9(B)(3).
173-400-113 | New Sources in Attainment or Unclassifiable Areas—Review for Compliance with Regulations | 12/29/12 | 6/15/20, 85 FR 36154 | Only subsection (4), otherwise NWCAA section 300 applies.
173-400-117 | Special Protection Requirements for Federal Class I Areas | 12/29/12 | 6/15/20, 85 FR 36154 |
173-400-118 | Designation of Class I, II, and III Areas | 12/29/12 | 6/15/20, 85 FR 36154 |
173-400-131 | Issuance of Emission Reduction Credits | 4/1/11 | 6/15/20, 85 FR 36154 |
173-400-136 | Use of Emission Reduction Credits (ERC) | 4/1/11 | 6/15/20, 85 FR 36154 |
173-400-151 | Retrofit Requirements for Visibility Protection | 2/10/05 | 6/15/20, 85 FR 36154 |
173-400-161 | Compliance Schedules | 3/22/91 | 6/2/95, 60 FR 28726 |
173-400-171 | Public Notice and Opportunity for Public Comment | 9/16/18 | 6/15/20, 85 FR 36154 | Only subsection (6)(b), otherwise NWCAA section 305 applies.
173-400-190 | Requirements for Nonattainment Areas | 3/22/91 | 6/2/95, 60 FR 28726 |
173-400-200 | Creditable Stack Height and Dispersion Techniques | 2/10/05 | 6/15/20, 85 FR 36154 |
173-400-205 | Adjustment for Atmospheric Conditions | 3/22/91 | 6/2/95, 60 FR 28726 |
173-400-210 | Emission Requirements of Prior Jurisdictions | 3/22/91 | 6/2/95, 60 FR 28726 |
173-400-800 | Major Stationary Source and Major Modification in a Nonattainment Area | 4/1/11 | 6/15/20, 85 FR 36154 | EPA did not review WAC 173-400-800 through 860 for consistency with the August 24, 2016 PM2.5 implementation rule (81 FR 58010); nor does NWCAA have an obligation to submit rule revisions to address the 2016 PM2.5 implementation rule at this time.
173-400-810 | Major Stationary Source and Major Modification Definitions | 7/1/16 | 6/15/20, 85 FR 36154 |
173-400-820 | Determining if a New Stationary Source or Modification to a Stationary Source is Subject to these Requirements | 12/29/12 | 6/15/20, 85 FR 36154 |
173-400-830 | Permitting Requirements | 7/1/16 | 6/15/20, 85 FR 36154 |
173-400-840 | Emission Offset Requirements | 7/1/16 | 6/15/20, 85 FR 36154 |
173-400-850 | Actual Emissions Plantwide Applicability Limitation (PAL) | 7/1/16 | 6/15/20, 85 FR 36154 |
173-400-860 | Public Involvement Procedures | 4/1/11 | 6/15/20, 85 FR 36154 |

Table 6—Additional Regulations Approved for the Olympic Region Clean Air Agency (ORCAA) Jurisdiction
[Applicable in Clallam, Grays Harbor, Jefferson, Mason, Pacific, and Thurston counties, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Olympic Region Clean Air Agency Regulations
Rule 6.2 Outdoor Burning
6.2.3 | No Residential or Land Clearing Burning | 2/4/12 | 10/3/13, 78 FR 61188 | Only as it applies to the cities of Olympia, Lacey, and Tumwater.
6.2.6 | Curtailment | 3/18/11 | 10/3/13, 78 FR 61188 |
6.2.7 | Recreational Burning | 3/18/11 | 10/3/13, 78 FR 61188 |
Rule 8.1 Wood Heating
8.1.1 | Definitions | 5/22/10 | 10/3/13, 78 FR 61188 |
8.1.2 (b) and (c) | General Emission Standards | 5/22/10 | 10/3/13, 78 FR 61188 |
8.1.3 | Prohibited Fuel Types | 5/22/10 | 10/3/13, 78 FR 61188 |
8.1.4 | Curtailment | 5/22/10 | 10/3/13, 78 FR 61188 |
8.1.5 | Exceptions | 5/22/10 | 10/3/13, 78 FR 61188 |
8.1.7 | Sale and Installation of Uncertified Woodstoves | 5/22/10 | 10/3/13, 78 FR 61188 |
8.1.8 | Disposal of Uncertified Woodstoves | 5/22/10 | 10/3/13, 78 FR 61188 |
Washington Department of Ecology Regulations
Washington Administrative Code, Chapter 173-400—General Regulations for Air Pollution Sources
173-400-010 | Policy and Purpose | 3/22/91 | 6/2/95, 60 FR 28726 |
173-400-020 | Applicability | 3/22/91 | 6/2/95, 60 FR 28726 |
173-400-030 | Definitions | 3/22/91 | 6/2/95, 60 FR 28726 |
173-400-040 | General Standards for Maximum Emissions | 3/22/91 | 6/2/95, 60 FR 28726 | Except (1)(c), and (1)(d), (2), (4), and the 2nd paragraph of (6).
173-400-050 | Emission Standards for Combustion and Incineration Units | 3/22/91 | 6/2/95, 60 FR 28726 | Except the exception provision in (3).
173-400-060 | Emission Standards for General Process Units | 3/22/91 | 6/2/95, 60 FR 28726 |
173-400-070 | Emission Standards for Certain Source Categories | 3/22/91 | 6/2/95, 60 FR 28726 | Except (7).
173-400-081 | Startup and Shutdown | 9/20/93 | 6/2/95, 60 FR 28726 |
173-400-091 | Voluntary Limits on Emissions | 9/20/93 | 6/2/95, 60 FR 28726 | 9/20/93 version continues to be approved under the authority of CAA Section 112(l) with respect to Section 112 hazardous air pollutants. See 60 FR 28726 (June 2, 1995).
173-400-100 | Registration | 9/20/93 | 6/2/95, 60 FR 28726 |
173-400-105 | Records, Monitoring and Reporting | 9/20/93 | 6/2/95, 60 FR 28726 |
173-400-107 | Excess Emissions | 9/20/93 | 6/2/95, 60 FR 28726 |
173-400-110 | New Source Review (NSR) | 9/20/93 | 6/2/95, 60 FR 28726 |
173-400-112 | Requirements for New Sources in Nonattainment Areas | 9/20/93 | 6/2/95, 60 FR 28726 | Except (8).
173-400-113 | Requirements for New Sources in Attainment or Unclassifiable Areas | 9/20/93 | 6/2/95, 60 FR 28726 | Except (5).
173-400-151 | Retrofit Requirements for Visibility Protection | 3/22/91 | 6/2/95, 60 FR 28726 |
173-400-161 | Compliance Schedules | 3/22/91 | 6/2/95, 60 FR 28726 |
173-400-171 | Public Involvement | 9/20/93 | 6/2/95, 60 FR 28726. |
173-400-190 | Requirements for Nonattainment Areas | 3/22/91 | 6/2/95, 60 FR 28726 |
173-400-200 | Creditable Stack Height & Dispersion Techniques | 3/22/91 | 6/2/95, 60 FR 28726 |
173-400-205 | Adjustment for Atmospheric Conditions | 3/22/91 | 6/2/95, 60 FR 28726 |
173-400-210 | Emission Requirements of Prior Jurisdictions | 3/22/91 | 6/2/95, 60 FR 28726 |

Table 7—Additional Regulations Approved for the Puget Sound Clean Air Agency (PSCAA) Jurisdiction
[Applicable in King, Kitsap, Pierce and Snohomish counties, excluding facilities subject to Energy Facilities Site Evaluation Council (EFSEC) jurisdiction; facilities subject to the Washington Department of Ecology's direct jurisdiction under Chapters 173-405, 173-410, and 173-415 Washington Administrative Code (WAC); Indian reservations (excluding non-trust land within the exterior boundaries of the Puyallup Indian Reservation); any other area where the EPA or an Indian tribe has demonstrated that a tribe has jurisdiction; and the Prevention of Significant Deterioration (PSD) permitting of facilities subject to the applicability sections of WAC 173-400-700.]
State/local citation | Title/subject | State/local effective date | EPA approval date | Explanations
Puget Sound Clean Air Agency Regulations
Regulation I—Article 1: Policy, Short Title, and Definitions
1.01 | Policy | 11/1/99 | 4/22/20, 85 FR 22355 | Replaces WAC 173-400-010.
1.03 | Name of Agency | 11/1/99 | 8/31/04, 69 FR 53007
1.05 | Short Title | 11/1/99 | 8/31/04, 69 FR 53007
1.07 | Definitions | 12/1/18 | 4/22/20, 85 FR 22355 | Except the definition “toxic air pollutant (TAP) or toxic air contaminant.”
Regulation I—Article 3: General Provisions
3.03(f) | General Regulatory Orders | 2/1/12 | 4/22/20, 85 FR 22355
3.04 | Reasonably Available Control Technology | 7/1/12 | 4/22/20, 85 FR 22355 | Except 3.04(e). Replaces WAC 173-400-040(1)(c).
3.06 | Credible Evidence | 11/14/98 | 8/31/04, 69 FR 53007
3.25 | Federal Regulation Reference Date | 11/1/19 | 4/22/20, 85 FR 22355 | Replaces WAC 173-400-025.
Regulation I—Article 5: Registration
5.03 | Applicability of Registration Program | 11/1/16 | 4/22/20, 85 FR 22355 | Except 5.03(a)(8)(Q) and 5.03(b)(5).
5.05 | Registration Requirements | 2/1/17 | 4/22/20, 85 FR 22355 | Except 5.05(b)(1) and (2).
Regulation I—Article 6: New Source Review
6.01 | Components of New Source Review Program | 8/1/18 | 4/22/20, 85 FR 22355 | Except the parenthetical in 6.01(b) which states “as delegated by agreement with the US Environmental Protection Agency, Region 10.” See subheading below for revised Chapter 173-400 WAC provisions incorporated by reference.
6.03 | Notice of Construction | 11/1/15 | 4/22/20, 85 FR 22355 | Except 6.03(b)(10). Section 6.03 replaces WAC 173-400-110, except WAC 173-400-110(1)(c)(i) and (1)(d) which are incorporated by reference.
6.09 | Notice of Completion | 5/1/04 | 4/22/20, 85 FR 22355
6.10 | Work Done without an Approval | 9/1/01 | 4/22/20, 85 FR 22355
Regulation I—Article 7: Operating Permits
7.09 | General Reporting Requirements for Operating Permits | 2/1/17 | 4/22/20, 85 FR 22355 | Excluding toxic air pollutants.
Regulation I—Article 8: Outdoor Burning
8.04 | General Conditions for Outdoor Burning | 1/1/01 | 8/31/04, 69 FR 53007
8.05 | Agricultural Burning | 1/1/01 | 8/31/04, 69 FR 53007
8.06 | Outdoor Burning Ozone Contingency Measure | 1/23/03 | 8/5/04, 69 FR 47364
8.09 | Description of King County No-Burn Area | 1/1/01 | 8/31/04, 69 FR 53007
8.10 | Description of Pierce County No-Burn Area | 1/1/01 | 8/31/04, 69 FR 53007
8.11 | Description of Snohomish County No-Burn Area | 1/1/01 | 8/31/04, 69 FR 53007
8.12 | Description of Kitsap County No-Burn Area | 11/30/02 | 8/31/04, 69 FR 53007
Regulation I—Article 9: Emission Standards
9.03 | Emission of Air Contaminant: Visual Standard | 5/1/04 | 4/22/20, 85 FR 22355 | Except 9.03(e). Replaces WAC 173-400-040(2).
9.04 | Opacity Standards for Equipment with Continuous Opacity Monitoring Systems | 5/1/04 | 4/22/20, 85 FR 22355 | Except 9.04(d)(2) and 9.04(f).
9.05 | Refuse Burning | 1/13/94 | 6/29/95, 60 FR 33734
9.07 | Sulfur Dioxide Emission Standard | 5/19/94 | 4/22/20, 85 FR 22355 | Replaces WAC 173-400-040(7).
9.08 | Fuel Oil Standards | 5/1/04 | 4/22/20, 85 FR 22355 | Approved only as it applies to the regulation of criteria pollutants.
9.09 | Particulate Matter Emission Standards | 6/1/98 | 4/22/20, 85 FR 22355 | Replaces WAC 173-400-050(1)&(3) and 173-400-060.
9.11(a) | Emission of Air Contaminant: Detriment to Person or Property | 4/17/99 | 4/22/20, 85 FR 22355 | Replaces WAC 173-400-040(6).
9.13 | Emission of Air Contaminant: Concealment and Masking Restricted | 6/9/88 | 4/22/20, 85 FR 22355 | Replaces WAC 173-400-040(8).
9.15 | Fugitive Dust Control Measures | 4/17/99 | 4/22/20, 85 FR 22355 | Replaces WAC 173-400-040(9)(a).
9.16 | Spray-Coating Operations | 12/2/10 | 4/22/20, 85 FR 22355
9.18 | Crushing Operations | 3/2/12 | 4/22/20, 85 FR 22355
9.20 | Maintenance of Equipment | 6/9/88 | 8/29/94, 59 FR 44324
Regulation I—Article 12: Standards of Performance for Continuous Emission Monitoring Systems
12.01 | Applicability | 6/1/98 | 8/31/04, 69 FR 53007
12.03 | Continuous Emission Monitoring Systems | 11/1/15 | 4/22/20, 85 FR 22355 | Replaces WAC 173-400-105(7).
Regulation I—Article 13: Solid Fuel Burning Device Standards
13.01 | Policy and Purpose | 12/1/12 | 5/29/13, 78 FR 32131
13.02 | Definitions | 12/1/12 | 5/29/13, 78 FR 32131
13.03 | Opacity Standards | 12/1/12 | 5/29/13, 78 FR 32131
13.04 | Prohibited Fuel Types | 12/1/12 | 5/29/13, 78 FR 32131
13.05 | Curtailment | 12/1/12 | 5/29/13, 78 FR 32131
13.06 | Emission Performance Standards | 12/1/12 | 5/29/13, 78 FR 32131
13.07 | Prohibition on Wood Stoves that are not Certified Wood Stoves | 12/1/12 | 5/29/13, 78 FR 32131
Regulation II—Article 1: Purpose, Policy, Short Title, and Definitions
1.01 | Purpose | 11/1/99 | 8/31/04, 69 FR 53007
1.02 | Policy | 11/1/99 | 8/31/04, 69 FR 53007
1.03 | Short Title | 11/1/99 | 8/31/04, 69 FR 53007
1.04 | General Definitions | 12/11/80 | 2/28/83, 48 FR 8273
1.05 | Special Definitions | 9/1/03 | 9/17/13, 78 FR 57073
Regulation II—Article 2: Gasoline Marketing Emission Standards
2.01 | Definitions | 8/13/99 | 8/31/04, 69 FR 53007
2.03 | Petroleum Refineries | 7/15/91 | 8/29/94, 59 FR 44324
2.05 | Gasoline Loading Terminals | 1/13/94 | 6/29/95, 60 FR 33734
2.06 | Bulk Gasoline Plants | 7/15/91 | 8/29/94, 59 FR 44324
2.07 | Gasoline Stations | 1/10/00 | 8/31/04, 69 FR 53007
2.08 | Gasoline Transport Tanks | 8/13/99 | 8/31/04, 69 FR 53007
2.09 | Oxygenated Gasoline Carbon Monoxide Contingency Measure and Fee Schedule | 1/23/03 | 8/5/04, 69 FR 47365
2.10 | Gasoline Station Ozone Contingency Measure | 1/23/03 | 8/5/04, 69 FR 47365
Regulation II—Article 3: Miscellaneous Volatile Organic Compound Emission Standards
3.01 | Cutback Asphalt Paving | 7/15/91 | 8/29/94, 59 FR 44324
3.02 | Volatile Organic Compound Storage Tanks | 8/13/99 | 8/31/04, 69 FR 53007
3.03 | Can and Paper Coating Operations | 3/17/94 | 6/29/95, 60 FR 33734
3.04 | Motor Vehicle and Mobile Equipment Coating Operations | 9/1/03 | 9/17/13, 78 FR 57073
3.05 | Graphic Arts Systems | 1/13/94 | 6/29/95, 60 FR 33734
3.08 | Polyester, Vinylester, Gelcoat, and Resin Operations | 1/13/94 | 6/29/95, 60 FR 33734
3.09 | Aerospace Component Coating Operations | 1/13/94 | 6/29/95, 60 FR 33734
Washington Administrative Code, Chapter 173-400 Regulations Incorporated by Reference in Regulation I, Section 6.01
173-400-030 | Definitions | 12/29/12 | 4/22/20, 85 FR 22355 | Except: 173-400-030(91).
173-400-081 | Startup and Shutdown | 4/1/11 | 4/22/20, 85 FR 22355
173-400-110 | New Source Review (NSR) for Sources and Portable Sources | 12/29/12 | 4/22/20, 85 FR 22355 | 173-400-110(1)(c)(i) and 173-400-110(1)(d) only.
173-400-111 | Processing Notice of Construction Applications for Sources, Stationary Sources and Portable Sources | 7/1/16 | 4/22/20, 85 FR 22355 | Except: 173-400-111(3)(h); —The part of 173-400-111(8)(a)(v) that says, “and 173-460-040,”; 173-400-111(9).
173-400-112 | Requirements for New Sources in Nonattainment Areas | 12/29/12 | 4/22/20, 85 FR 22355
173-400-113 | Requirements for New Sources in Attainment or Unclassifiable Areas | 12/29/12 | 4/22/20, 85 FR 22355 | Except: 173-400-113(3), second sentence.
173-400-117 | Special Protection Requirements for Federal Class I Areas | 12/29/12 | 4/22/20, 85 FR 22355
173-400-171 | Public Notice and Opportunity for Public Comment | 7/1/16 | 4/22/20, 85 FR 22355 | Except: —The part of 173-400-171(3)(b) that says, “or any increase in emissions of a toxic air pollutant above the acceptable source impact level for that toxic air pollutant as regulated under chapter 173-460 WAC”; 173-400-171(12).
173-400-200 | Creditable Stack Height and Dispersion Techniques | 2/10/05 | 4/22/20, 85 FR 22355
173-400-560 | General Order of Approval | 12/29/12 | 4/22/20, 85 FR 22355 | Except: —The part of 173-400-560(1)(f) that says, “173-460 WAC”.
173-400-800 | Major Stationary Source and Major Modification in a Nonattainment Area | 4/1/11 | 4/22/20, 85 FR 22355 | EPA did not review WAC 173-400-800 through 860 for consistency with the August 24, 2016 PM2.5 implementation rule (81 FR 58010); nor does PSCAA have an obligation to submit rule revisions to address the 2016 PM2.5 implementation rule at this time.
173-400-810 | Major Stationary Source and Major Modification Definitions | 7/1/16 | 4/22/20, 85 FR 22355
173-400-820 | Determining if a New Stationary Source or Modification to a Stationary Source is Subject to these Requirements | 12/29/12 | 4/22/20, 85 FR 22355
173-400-830 | Permitting Requirements | 7/1/16 | 4/22/20, 85 FR 22355
173-400-840 | Emission Offset Requirements | 7/1/16 | 4/22/20, 85 FR 22355
173-400-850 | Actual Emissions Plantwide Applicability Limitation (PAL) | 7/1/16 | 4/22/20, 85 FR 22355
173-400-860 | Public Involvement Procedures | 4/1/11 | 4/22/20, 85 FR 22355
Washington Department of Ecology Regulations
Washington Administrative Code, Chapter 173-400—General Regulations for Air Pollution Sources
173-400-020 | Applicability | 12/29/12 | 4/22/20, 85 FR 22355
173-400-040 | General Standards for Maximum Emissions | 9/16/18 | 4/22/20, 85 FR 22355 | 173-400-040(1)(a) & (b), 173-400-040(4); and 173-400-040(9)(b) only.
173-400-070 | Emission Standards for Certain Source Categories | 3/22/91 | 6/2/95, 60 FR 28726 | Except (7).
173-400-091 | Voluntary Limits on Emissions | 4/1/11 | 4/22/20, 85 FR 22355 | 9/20/93 version continues to be approved under the authority of CAA Section 112(l) with respect to Section 112 hazardous air pollutants. See 60 FR 28726 (June 2, 1995).
173-400-105 | Records, Monitoring and Reporting | 11/25/18 | 4/22/20, 85 FR 22355 | Except: 173-400-105(7).
173-400-107 | Excess Emissions | 9/20/93 | 6/2/95, 60 FR 28726
173-400-118 | Designation of Class I, II, and III Areas | 12/29/12 | 4/22/20, 85 FR 22355
173-400-131 | Issuance of Emission Reduction Credits | 4/1/11 | 4/22/20, 85 FR 22355
173-400-136 | Use of Emission Reduction Credits (ERC) | 12/29/12 | 4/22/20, 85 FR 22355
173-400-151 | Retrofit Requirements for Visibility Protection | 2/10/05 | 4/22/20, 85 FR 22355
173-400-161 | Compliance Schedules | 3/22/91 | 6/2/95, 60 FR 28726
173-400-175 | Public Information | 2/10/05 | 4/22/20, 85 FR 22355
173-400-190 | Requirements for Nonattainment Areas | 3/22/91 | 6/2/95, 60 FR 28726
173-400-205 | Adjustment for Atmospheric Conditions | 3/22/91 | 6/2/95, 60 FR 28726
173-400-210 | Emission Requirements of Prior Jurisdictions | 3/22/91 | 6/2/95, 60 FR 28726

Table 8—Additional Regulations Approved for the Southwest Clean Air Agency (SWCAA) Jurisdiction
[Applicable in Clark, Cowlitz, Lewis, Skamania and Wahkiakum counties, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Southwest Clean Air Agency Regulations
General Regulations for Air Pollution Sources
400-010 | Policy and Purpose | 3/18/01 | 4/10/17, 82 FR 17136 |
400-020 | Applicability | 10/9/16 | 4/10/17, 82 FR 17136 |
400-025 | Adoption of Federal Rules | 9/10/21 | 9/29/23, 88 FR 67097 |
400-030 | Definitions | 9/10/21 | 9/29/23, 88 FR 67097 | Except: 400-030(21) and (130).
400-036 | Portable Sources from Other Washington Jurisdictions | 9/10/21 | 9/29/23, 88 FR 67097 |
400-040(1)(a) | General Standards for Maximum Emissions | 9/21/95 | 2/26/97, 62 FR 8624 |
400-040 | General Standards for Maximum Emissions | 10/9/16 | 4/10/17, 82 FR 17136 | Except: 400-040(1)(a), (c) and (d); 400-040(2); and 400-040(4).
400-050 | Emission Standards for Combustion and Incineration Units | 9/10/21 | 9/29/23, 88 FR 67097 | Except: 400-050(3); 400-050(5); 400-050(6); and 400-050(7).
400-060 | Emission Standards for General Process Units | 3/21/20 | 9/29/23, 88 FR 67097 |
400-070(2)(a) | Emission Standards for Certain Source Categories | 9/21/95 | 2/26/97, 62 FR 8624 |
400-070 | General Requirements for Certain Source Categories | 10/9/16 | 4/10/17, 82 FR 17136 | Except: 400-070(2)(a); 400-070(3)(b); 400-070(5); 400-070(6); 400-070(7); 400-070(8)(c); 400-070(9); 400-070(10); 400-070(11); 400-070(12); 400-070(14); and 400-070(15)(c).
400-072 | Small Unit Notification for Selected Source Categories |  | 9/29/23, 88 FR 67097 | Except: 400-072(5)(a)(ii)(B); 400-072(5)(d)(ii)(B); 400-072(5)(d)(iii)(A); 400-072(5)(d)(iii)(B); all reporting requirements related to toxic air pollutants; and 400-072(5)(b), which EPA previously approved with a state-effective date of October 9, 2016.
400-072 (5)(b) | Small Unit Notification for Selected Source Categories | 10/9/16 | 4/10/17, 82 FR 17136 |
400-074 | Gasoline Transport Tanker Registration | 6/18/17 | 9/29/23, 88 FR 67097 | Except: 400-074(2).
400-081 | Startup and Shutdown | 10/9/16 | 4/10/17, 82 FR 17136 |
400-091 | Voluntary Limits on Emissions | 9/10/21 | 9/29/23, 88 FR 67097 |
400-105 | Records, Monitoring and Reporting | 9/10/21 | 9/29/23, 88 FR 67097 | Except: reporting requirements related to toxic air pollutants
400-106 | Emission Testing and Monitoring at Air Contaminant Sources | 9/10/21 | 9/29/23, 88 FR 67097 | Except: 400-106(1)(d) through (g); and 400-106(2).
400-107 | Excess Emissions | 9/21/95 | 2/26/97, 62 FR 8624 |
400-109 | Air Discharge Permit Applications | 9/10/21 | 9/29/23, 88 FR 67097 | Except: The toxic air pollutant emissions thresholds contained in 400-109(3)(d); 400-109(3)(e)(ii); and 400-109(4).
400-110 | Application Review Process for Stationary Sources (New Source Review) | 9/10/21 | 9/29/23, 88 FR 67097 | Except: 400-110(1)(d).
400-111 | Requirements for New Sources in a Maintenance Plan Area | 9/10/21 | 9/29/23, 88 FR 67097 | Except: 400-111(7).
400-112 | Requirements for New Sources in Nonattainment Areas | 9/10/21 | 9/29/23, 88 FR 67097 | Except: 400-112(6).
400-113 | Requirements for New Sources in Attainment or Nonclassifiable Areas | 9/10/21 | 9/29/23, 88 FR 67097 | Except: 400-113(5).
400-114 | Requirements for Replacement or Substantial Alteration of Emission Control Technology at an Existing Stationary Source | 9/10/21 | 9/29/23, 88 FR 67097 |
400-116 | Maintenance of Equipment | 11/9/03 | 4/10/17, 82 FR 17136 |
400-130 | Use of Emission Reduction Credits | 10/9/16 | 4/10/17, 82 FR 17136 |
400-131 | Deposit of Emission Reduction Credits Into Bank | 10/9/16 | 4/10/17, 82 FR 17136 |
400-136 | Maintenance of Emission Reduction Credits in Bank | 9/10/21 | 9/29/23, 88 FR 67097 |
400-151 | Retrofit Requirements for Visibility Protection | 9/10/21 | 9/29/23, 88 FR 67097 |
400-161 | Compliance Schedules | 3/18/01 | 4/10/17, 82 FR 17136 |
400-171 | Public Involvement | 9/10/21 | 9/29/23, 88 FR 67097 | Except: 400-171(2)(a)(xii).
400-190 | Requirements for Nonattainment Areas | 10/9/16 | 4/10/17, 82 FR 17136 |
400-200 | Vertical Dispersion Requirement, Creditable Stack Height and Dispersion Techniques | 10/9/16 | 4/10/17, 82 FR 17136 |
400-205 | Adjustment for Atmospheric Conditions | 3/18/01 | 4/10/17, 82 FR 17136 |
400-210 | Emission Requirements of Prior Jurisdictions | 3/18/01 | 4/10/17, 82 FR 17136 |
400-260 | Conflict of Interest | 9/10/21 | 9/29/23, 88 FR 67097 |
400-800 | Major Stationary Source and Major Modification in a Nonattainment Area | 10/9/16 | 4/10/17, 82 FR 17136 |
400-810 | Major Stationary Source and Major Modification Definitions | 9/10/21 | 9/29/23, 88 FR 67097 |
400-820 | Determining If a New Stationary Source or Modification to a Stationary Source is Subject to These Requirements | 10/9/16 | 4/10/17, 82 FR 17136 |
400-830 | Permitting Requirements | 10/9/16 | 4/10/17, 82 FR 17136 |
400-840 | Emission Offset Requirements | 10/9/16 | 4/10/17, 82 FR 17136 |
400-850 | Actual Emissions—Plantwide Applicability Limitation (PAL) | 3/21/20 | 9/29/23, 88 FR 67097 |
400-860 | Public Involvement Procedures | 10/9/16 | 4/10/17, 82 FR 17136 |
Appendix A | SWCAA Method 9 Visual Opacity Determination Method | 3/21/20 | 9/29/23, 88 FR 67097 |
Appendix B | Description of Vancouver Ozone and Carbon Monoxide Maintenance Area Boundary | 10/9/16 | 4/10/17, 82 FR 17136 |
Emission Standards and Controls for Sources Emitting Volatile Organic Compounds
490-010 | Policy and Purpose | 11/21/96 | 5/19/97, 62 FR 27204 |
490-020 | Definitions | 11/21/96 | 5/19/97, 62 FR 27204 |
490-025 | General Applicability | 11/21/96 | 5/19/97, 62 FR 27204 |
490-030 | Registration and Reporting | 11/21/96 | 5/19/97, 62 FR 27204 |
490-040 | Requirements | 11/21/96 | 5/19/97, 62 FR 27204 |
490-080 | Exceptions & Alternative Methods | 11/21/96 | 5/19/97, 62 FR 27204 |
490-090 | New Source Review | 11/21/96 | 5/19/97, 62 FR 27204 |
490-200 | Petroleum Refinery Equipment Leaks | 11/21/96 | 5/19/97, 62 FR 27204 |
490-201 | Petroleum Liquid Storage in External Floating Roof Tanks | 11/21/96 | 5/19/97, 62 FR 27204 |
490-202 | Leaks from Gasoline Transport Tanks and Vapor Collection Systems | 11/21/96 | 5/19/97, 62 FR 27204 |
490-203 | Perchloroethylene Dry Cleaning Systems | 11/21/96 | 5/19/97, 62 FR 27204 |
490-204 | Graphic Arts Systems | 11/21/96 | 5/19/97, 62 FR 27204 |
490-205 | Surface Coating of Miscellaneous Metal Parts and Products | 11/21/96 | 5/19/97, 62 FR 27204 |
490-207 | Surface Coating of Flatwood Paneling | 11/21/96 | 5/19/97, 62 FR 27204 |
490-208 | Aerospace Assembly & Component Coating Operations | 11/21/96 | 5/19/97, 62 FR 27204 |
Emissions Standards and Controls for Sources Emitting Gasoline Vapors
491-010 | Policy and Purpose | 3/18/01 | 9/28/23, 88 FR 66692 |
491-015 | Applicability | 3/18/01 | 9/28/23, 88 FR 66692 |
491-020 | Definitions | 2/7/20 | 9/28/23, 88 FR 66692 |
491-030 | Registration | 2/7/20 | 9/28/23, 88 FR 66692 |
491-040 | Gasoline Vapor Control Requirements | 2/7/20 | 9/28/23, 88 FR 66692 |
491-050 | Failures, Certification, Testing & Recordkeeping | 2/7/20 | 9/28/23, 88 FR 66692 |
491-060 | Severability | 3/18/01 | 9/28/23, 88 FR 66692 |
Oxygenated Fuels
492-010 | Policy and Purpose | 11/21/96 | 4/30/97, 62 FR 23363 |
492-020 | Applicability | 11/21/96 | 4/30/97, 62 FR 23363 |
492-030 | Definitions | 11/21/96 | 4/30/97, 62 FR 23363 |
492-040 | Compliance Requirements | 11/21/96 | 4/30/97, 62 FR 23363 |
492-050 | Registration Requirements | 11/21/96 | 4/30/97, 62 FR 23363 |
492-060 | Labeling Requirements | 11/21/96 | 4/30/97, 62 FR 23363 |
492-070 | Control Area and Control Period | 11/21/96 | 4/30/97, 62 FR 23363 |
492-080 | Enforcement and Compliance | 11/21/96 | 4/30/97, 62 FR 23363 |
492-090 | Unplanned Conditions | 11/21/96 | 4/30/97, 62 FR 23363 |
492-100 | Severability | 11/21/96 | 4/30/97, 62 FR 23363 |
VOC Area Source Rules
493-100 | Consumer Products (Reserved) | 5/26/96 | 5/19/97, 62 FR 27204 |
493-200-010 | Applicability | 5/26/96 | 5/19/97, 62 FR 27204 |
493-200-020 | Definitions | 5/26/96 | 5/19/97, 62 FR 27204 |
493-200-030 | Spray Paint Standards & Exemptions | 5/26/96 | 5/19/97, 62 FR 27204 |
493-200-040 | Requirements for Manufacture, Sale and Use of Spray Paint | 5/26/96 | 5/19/97, 62 FR 27204 |
493-200-050 | Recordkeeping & Reporting Requirements | 5/26/96 | 5/19/97, 62 FR 27204 |
493-200-060 | Inspection and Testing Requirements | 5/26/96 | 5/19/97, 62 FR 27204 |
493-300-010 | Applicability | 5/26/96 | 5/19/97, 62 FR 27204 |
493-300-020 | Definitions | 5/26/96 | 5/19/97, 62 FR 27204 |
493-300-030 | Standards | 5/26/96 | 5/19/97, 62 FR 27204 |
493-300-040 | Requirements for Manufacture, Sale and Use of Architectural Coatings | 5/26/96 | 5/19/97, 62 FR 27204 |
493-300-050 | Recordkeeping & Reporting Requirements | 5/26/96 | 5/19/97, 62 FR 27204 |
493-300-060 | Inspection and Testing Requirements | 5/26/96 | 5/19/97, 62 FR 27204 |
493-400-010 | Applicability | 5/26/96 | 5/19/97, 62 FR 27204 |
493-400-020 | Definitions | 5/26/96 | 5/19/97, 62 FR 27204 |
493-400-030 | Coating Standards & Exemptions | 5/26/96 | 5/19/97, 62 FR 27204 |
493-400-040 | Requirements for Manufacture & Sale of Coating | 5/26/96 | 5/19/97, 62 FR 27204 |
493-400-050 | Requirements for Motor Vehicle Refinishing in Vancouver AQMA | 5/26/96 | 5/19/97, 62 FR 27204 |
493-400-060 | Recordkeeping and Reporting Requirements | 5/26/96 | 5/19/97, 62 FR 27204 |
493-400-070 | Inspection & Testing Requirements | 5/26/96 | 5/19/97, 62 FR 27204 |
493-500-010 | Applicability | 5/26/96 | 5/19/97, 62 FR 27204 |
493-500-020 | Compliance Extensions | 5/26/96 | 5/19/97, 62 FR 27204 |
493-500-030 | Exemption from Disclosure to the Public | 5/26/96 | 5/19/97, 62 FR 27204 |
493-500-040 | Future Review | 5/26/96 | 5/19/97, 62 FR 27204 |
Washington Department of Ecology Regulations
Washington Administrative Code, Chapter 173-400—General Regulations for Air Pollution Sources
173-400-117 | Special Protection Requirements for Federal Class I Areas | 12/29/12 | 4/10/17, 82 FR 17136 | For permits issued under the applicability provisions of WAC 173-400-800.
173-400-118 | Designation of Class I, II, and III Areas | 12/29/12 | 4/10/17, 82 FR 17136 |
173-400-560 | General Order of Approval | 12/29/12 | 4/10/17, 82 FR 17136 | Except: —The part of 173-400-560(1)(f) that says, “173-460 WAC”.

Table 9—Additional Regulations Approved for the Spokane Regional Clean Air Agency (SRCAA) Jurisdiction
[Applicable in Spokane county, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Spokane Regional Clean Air Agency Regulation I
Article I—Policy, Short Title, and Definitions
1.01 | Policy | 9/1/20 | 5/10/21, 86 FR 24718 | Subsections (A) and (B) replace WAC 173-400-010.
1.02 | Name of Agency | 9/1/20 | 5/10/21, 86 FR 24718 |
1.03 | Short Title | 9/1/20 | 5/10/21, 86 FR 24718 |
1.04 | General Definitions | 9/1/20 | 5/10/21, 86 FR 24718 | Except subsections (17), (41), (52), (60), (74), (101), (112), (119), and (122). Section 1.04 replaces WAC 173-400-030 except the WAC 173-400-030 definitions list below.
1.05 | Acronym Index | 9/1/20 | 5/10/21, 86 FR 24718 |
Article II—General Provisions
2.08 | Falsification of Statements or Documents, and Treatment of Documents | 9/1/20 | 5/10/21, 86 FR 24718 | Subsections (E) and (F) only. Subsection (E) replaces WAC 173-400-105(6). Subsection (F) replaces WAC 173-400-105(8).
2.09 | Source Tests | 9/1/20 | 5/10/21, 86 FR 24718 | Section 2.09 replaces WAC 173-400-105(4).
2.13 | Federal and State Regulation Reference Date | 9/1/20 | 5/10/21, 86 FR 24718 | Subsection (A) replaces WAC 173-400-025.
2.14 | Washington Administrative Codes (WACS) | 9/1/20 | 5/10/21, 86 FR 24718 | Subsection (A)(1) only, and only with respect to those revised Chapter 173-400 WAC provisions that are identified for incorporation by reference in the table below.
Article IV—Registration
4.03 | Registration Exemptions | 9/1/20 | 5/10/21, 86 FR 24718 | Subsections (B) and (C) only.
4.04 | Stationary Sources and Source Categories Subject to Registration | 9/1/20 | 5/10/21, 86 FR 24718 | Except subsections (A)(3)(u), (A)(3)(v), (A)(5)(b), (A)(5)(e)(9), or any other provision as it relates to the regulation of toxic air pollutants or odors.
4.05 | Closure of a Stationary Source or Emissions Unit(s) | 9/1/20 | 5/10/21, 86 FR 24718 |
Article V—New Source Review for Stationary Sources and Portable Sources
5.02 | New Source Review—Applicability and when Required | 9/1/20 | 5/10/21, 86 FR 24718 | Except subsections (C)(5) and (I). Section 5.02 Replaces WAC 173-400-110. Subsection (F) replaces WAC 173-400-111(2).
5.03 | NOC and PSP Fees | 9/1/20 | 5/10/21, 86 FR 24718 |
5.04 | Information Required | 9/1/20 | 5/10/21, 86 FR 24718 | Except subsection (A)(8). Collectively, sections 5.04, 5.06, 5.07, 5.10, 5.13, and 5.14 replace the permitting procedures in WAC 173-400-111.
5.05 | Public Involvement | 9/1/20 | 5/10/21, 86 FR 24718 | Except subsection (C)(15). Section 5.05 replaces WAC 173-400-171.
5.06 | Application Completeness Determination | 9/1/20 | 5/10/21, 86 FR 24718 | Collectively, sections 5.04, 5.06, 5.07, 5.10, 5.13, and 5.14 replace the permitting procedures in WAC 173-400-111.
5.07 | Processing NOC Applications for Stationary Sources | 9/1/20 | 5/10/21, 86 FR 24718 | Except subsections (A)(1)(g) and (B). Collectively, sections 5.04, 5.06, 5.07, 5.10, 5.13, and 5.14 replace the permitting procedures in WAC 173-400-111, and subsection 5.07(A)(7) replaces WAC 173-400-110(2)(a).
5.08 | Portable Sources | 9/1/20 | 5/10/21, 86 FR 24718 | Except subsection (A)(6). Section 5.08 replaces WAC 173-400-036.
5.09 | Operating Requirements for Order of Approval and Permission to Operate | 9/1/20 | 5/10/21, 86 FR 24718 | Except subsection (C).
5.10 | Changes to an Order of Approval or Permission to Operate | 9/1/20 | 5/10/21, 86 FR 24718 | Collectively, sections 5.04, 5.06, 5.07, 5.10, 5.13, and 5.14 replace the permitting procedures in WAC 173-400-111.
5.11 | Notice of Startup of a Stationary Source or a Portable Source | 9/1/20 | 5/10/21, 86 FR 24718 |
5.12 | Work Done Without an Approval | 9/1/20 | 5/10/21, 86 FR 24718 |
5.13 | Order of Approval Construction Time Limits | 9/1/20 | 5/10/21, 86 FR 24718 | Collectively, sections 5.04, 5.06, 5.07, 5.10, 5.13, and 5.14 replace the permitting procedures in WAC 173-400-111.
5.14 | Appeals | 9/1/20 | 5/10/21, 86 FR 24718 | Collectively, sections 5.04, 5.06, 5.07, 5.10, 5.13, and 5.14 replace the permitting procedures in WAC 173-400-111.
5.15 | Obligation to Comply | 9/1/20 | 5/10/21, 86 FR 24718 |
Article VI—Emissions Prohibited
6.04 | Emission of Air Contaminant: Detriment to Person or Property | 9/1/20 | 5/10/21, 86 FR 24718 | Subsections (A), (B), (C), and (H) only and excepting provisions in RCW 70.94.640 (incorporated by reference) that relate to odor. Subsection (C) replaces WAC 173-400-040(6).
6.05 | Particulate Matter & Preventing Particulate Matter from Becoming Airborne | 9/1/20 | 5/10/21, 86 FR 24718 | Except subsection (A). Section 6.05 supplements but does not replace WAC 173-400-040(4) and (9).
6.07 | Emission of Air Contaminant Concealment and Masking Restricted | 9/1/20 | 5/10/21, 86 FR 24718 | Section 6.07 replaces WAC 173-400-040(8).
6.14 | Standards for Control of Particulate Matter on Paved Surfaces | 9/1/20 | 5/10/21, 86 FR 24718 | Section 6.14 supplements but does not replace WAC 173-400-040(9).
6.15 | Standards for Control of Particulate Matter on Unpaved Roads | 9/1/20 | 5/10/21, 86 FR 24718 | Section 6.15 supplements but does not replace WAC 173-400-040(9).
Article VIII—Solid Fuel Burning Device Standards
8.01 | Purpose | 9/2/14 | 9/28/15, 80 FR 58216 |
8.02 | Applicability | 9/2/14 | 9/28/15, 80 FR 58216 |
8.03 | Definitions | 9/2/14 | 9/28/15, 80 FR 58216 |
8.04 | Emission Performance Standards | 9/2/14 | 9/28/15, 80 FR 58216 | Except the incorporation by reference of WAC 173-433-130, 173-433-170, and 173-433-200.
8.05 | Opacity Standards | 9/2/14 | 9/28/15, 80 FR 58216 |
8.06 | Prohibited Fuel Types | 9/2/14 | 9/28/15, 80 FR 58216 |
8.07 | Curtailment | 9/2/14 | 9/28/15, 80 FR 58216 |
8.08 | Exemptions | 9/2/14 | 9/28/15, 80 FR 58216 |
8.09 | Procedure to Geographically Limit Solid Fuel Burning Devices | 9/2/14 | 9/28/15, 80 FR 58216 |
8.10 | Restrictions on Installation of Solid Fuel Burning Devices | 9/2/14 | 9/28/15, 80 FR 58216 |
Washington Administrative Code, Chapter 173-400—General Regulations for Air Pollution Sources: Adopted by Reference in SRCAA Regulation I, Subsection 2.14(A)(1)
173-400-020 | Applicability | 12/29/12 | 5/10/21, 86 FR 24718 |
173-400-030(24) | Definitions | 3/22/91 | 6/2/95, 60 FR 28726 |
173-400-030 | Definitions | 9/16/18 | 5/10/21, 86 FR 24718 | Only the following definitions: Adverse Impact on Visibility; Capacity Factor; Class I Area; Dispersion Technique; Emission Threshold; Excess Stack Height; Existing Stationary Facility; Federal Class I Area; Federal Land Manager; Fossil Fuel-fired Steam Generator; General Process Unit; Greenhouse Gases; Industrial Furnace; Mandatory Class I Federal Area; Natural Conditions; Projected Width; Reasonably Attributable; Sulfuric Acid Plant; and Wood Waste.
173-400-040(1)(a) & (b) | General Standards for Maximum Emissions | 3/22/91 | 6/2/95, 60 FR 28726 |
173-400-040 | General Standards for Maximum Emissions | 9/16/18 | 5/10/21, 86 FR 24718 | Except: 173-400-040(2); 173-400-040(3); 173-400-040(5); 173-400-040(6); 173-400-040(8).
173-400-050 | Emission Standards for Combustion and Incineration Units | 9/16/18 | 5/10/21, 86 FR 24718 | Except: 173-400-050(2); 173-400-050(4); 173-400-050(5); 173-400-050(6).
173-400-060 | Emission Standards for General Process Units | 11/25/18 | 5/10/21, 86 FR 24718 |
173-400-070 | Emission Standards for Certain Source Categories | 3/22/91 | 6/2/95, 60 FR 28726 | Except (7).
173-400-081 | Startup and Shutdown | 9/20/93 | 6/2/95, 60 FR 28726 |
173-400-091 | Voluntary Limits on Emissions | 4/1/11 | 5/10/21, 86 FR 24718 | 9/20/93 version continues to be approved under the authority of CAA section 112(l) with respect to Section 112 hazardous air pollutants. See 60 FR 28726 (June 2, 1995).
173-400-105 | Records, Monitoring and Reporting | 11/25/18 | 5/10/21, 86 FR 24718 | Except: 173-400-105(3); 173-400-105(4); 173-400-105(6); 173-400-105(8).
173-400-107 | Excess Emissions | 9/20/93 | 6/2/95, 60 FR 28726 |
173-400-112 | Requirements for New Sources in Nonattainment Areas | 12/29/12 | 5/10/21, 86 FR 24718 | Except (8).
173-400-113 | Requirements for New Sources in Attainment or Unclassifiable Areas | 12/29/12 | 5/10/21, 86 FR 24718 | Except: 173-400-113(3), second sentence.
173-400-117 | Special Protection Requirements for Federal Class I Areas | 12/29/12 | 5/10/21, 86 FR 24718 |
173-400-118 | Designation of Class I, II, and III Areas | 12/29/12 | 5/10/21, 86 FR 24718 |
173-400-131 | Issuance of Emission Reduction Credits | 4/1/11 | 5/10/21, 86 FR 24718 |
173-400-136 | Use of Emission Reduction Credits (ERC) | 12/29/12 | 5/10/21, 86 FR 24718 |
173-400-151 | Retrofit Requirements for Visibility Protection | 2/10/05 | 5/10/21, 86 FR 24718 |
173-400-161 | Compliance Schedules | 3/22/91 | 6/2/95, 60 FR 28726 |
173-400-175 | Public Information | 2/10/05 | 5/10/21, 86 FR 24718 |
173-400-190 | Requirements for Nonattainment Areas | 3/22/91 | 6/2/95, 60 FR 28726 |
173-400-200 | Creditable Stack Height and Dispersion Techniques | 2/10/05 | 5/10/21, 86 FR 24718 |
173-400-205 | Adjustment for Atmospheric Conditions | 3/22/91 | 6/2/95, 60 FR 28726 |
173-400-210 | Emission Requirements of Prior Jurisdictions | 3/22/91 | 6/2/95, 60 FR 28726 |
173-400-560 | General Order of Approval | 12/29/12 | 5/10/21, 86 FR 24718 | Except: The part of 173-400-560(1)(f) that says, “173-460 WAC”.
173-400-800 | Major Stationary Source and Major Modification in a Nonattainment Area | 4/1/11 | 5/10/21, 86 FR 24718 | EPA did not review WAC 173-400-800 through 860 for consistency with the August 24, 2016 PM2.5 implementation rule (81 FR 58010); nor does SRCAA have an obligation to submit rule revisions to address the 2016 PM2.5 implementation rule at this time.
173-400-810 | Major Stationary Source and Major Modification Definitions | 7/1/16 | 5/10/21, 86 FR 24718 |
173-400-820 | Determining if a New Stationary Source or Modification to a Stationary Source is Subject to these Requirements | 12/29/12 | 5/10/21, 86 FR 24718 |
173-400-830 | Permitting Requirements | 7/1/16 | 5/10/21, 86 FR 24718 |
173-400-840 | Emission Offset Requirements | 7/1/16 | 5/10/21, 86 FR 24718 |
173-400-850 | Actual Emissions Plantwide Applicability Limitation (PAL) | 7/1/16 | 5/10/21, 86 FR 24718 |
173-400-860 | Public Involvement Procedures | 4/1/11 | 5/10/21, 86 FR 24718 |

Table 10—Additional Regulations Approved for the Yakima Regional Clean Air Agency (YRCAA) Jurisdiction
[Applicable in Yakima county, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Yakima Regional Clean Air Agency Regulations
Article 1—General Administrative Provisions
1.01 | Name of Agency | 11/9/20 | 7/11/22, 87 FR 41064
1.02 | Short Title | 11/9/20 | 7/11/22, 87 FR 41064
1.03 | Policy | 11/9/20 | 7/11/22, 87 FR 41064 | Except sub-section H. Replaces WAC 173-400-010.
1.04 | Applicability | 11/9/20 | 7/11/22, 87 FR 41064
1.06 | Records | 11/9/20 | 7/11/22, 87 FR 41064 | Replaces WAC 173-400-175.
1.07 | General Provisions | 11/9/20 | 7/11/22, 87 FR 41064 | Replaces WAC 173-400-105(6) & (8).
Article 2—General Regulations
2.04 | Public Participation in Permitting | 11/9/20 | 7/11/22, 87 FR 41064
Article 3—Rules
3.01 | General Rules | 11/9/20 | 7/11/22, 87 FR 41064 | Except sub-section D.
3.03 | Outdoor and Agricultural Burning | 11/9/20 | 9/28/23, 88 FR 66690 | Except subsection 3.03(C)(2)(g), 3.03(E)(2)(a), 3.03(E)(2)(c), 3.03(E)(3)(d), 3.03(K); and the following provisions in General Rule Permit No.: 3.03-1(E)(2)(b), 3.03-1(E)(2)(d), 3.03-1(E)(2)(e), 3.03-1(G), 3.03-2(E)(2)(b), 3.03-2(G), 3.03-3(E)(2)(b), 3.03-3(G), 3.03-4(E)(2)(c), 3.03-4(G), 3.03-5(E)(2)(d), and 3.03-5(G).
3.04 | Wood Heaters | 11/9/20 | 1/24/22, 87 FR 3435
3.05 | Burn Bans | 11/9/20 | 1/24/22, 87 FR 3435
3.08 | Specific Dust Controls | 11/9/20 | 7/11/22, 87 FR 41064 | Except sub-sections 3.08(A)(3)(b) and 3.08(B)(3).
Article 4—Permits and Registration
4.01 | Registration Program | 11/9/20 | 7/11/22, 87 FR 41064 | Excluding any provisions related to the regulation of Toxic Air Pollutants.
Appendices
Appendix A | Definitions of Words and Phrases | 11/9/20 | 7/11/22, 87 FR 41064
Appendix B | Definitions of Acronyms and Abbreviations | 11/9/20 | 7/11/22, 87 FR 41064
Washington Department of Ecology Regulations
Washington Administrative Code, Chapter 173-400—General Regulations for Air Pollution Sources
173-400-020 | Applicability | 12/29/12 | 7/11/22, 87 FR 41064
173-400-025 | Adoption of Federal Rules | 9/16/18 | 7/11/22, 87 FR 41064
173-400-030(24) | Definitions | 3/22/91 | 6/2/95, 60 FR 28726
173-400-030 | Definitions | 9/16/18 | 7/11/22, 87 FR 41064 | Except: 173-400-030(6); 173-400-030(32); 173-400-030(38); 173-400-030(45); 173-400-030(83); 173-400-030(89); 173-400-030(96); 173-400-030(97); 173-400-030(100); 173-400-030(103); 173-400-030(104).
173-400-036 | Relocation of Portable Sources | 12/29/12 | 7/11/22, 87 FR 41064
173-400-040(1)(a) & (b) | General Standards for Maximum Emissions | 3/22/91 | 6/2/95, 60 FR 28726 | Subsections 173-400-040(1)(a)&(b)(state effective 3/22/91) were subsequently revised and renumbered to subsection 173-400-040(2) which will be addressed in a separate action.
173-400-040 | General Standards for Maximum Emissions | 9/16/18 | 7/11/22, 87 FR 41064 | Except: 173-400-040(2); 173-400-040(3); 173-400-040(5);
173-400-050 | Emission Standards for Combustion and Incineration Units | 9/16/18 | 7/11/22, 87 FR 41064 | Except: 173-400-050(2); 173-400-050(4); 173-400-050(5); 173-400-050(6).
173-400-060 | Emission Standards for General Process Units | 11/25/18 | 7/11/22, 87 FR 41064
173-400-070 | Emission Standards for Certain Source Categories | 3/22/91 | 6/2/95, 60 FR 28726 | Except (7).
173-400-081 | Startup and Shutdown | 9/20/93 | 6/2/95, 60 FR 28726
173-400-105 | Records, Monitoring and Reporting | 11/25/18 | 7/11/22, 87 FR 41064 | Except 173-400-105(6) & (8).
173-400-107 | Excess Emissions | 9/20/93 | 6/2/95, 60 FR 28726
173-400-110 | New Source Review (NSR) for Sources and Portable Sources | 12/29/12 | 7/11/22, 87 FR 41064 | Except: 173-400-110(1)(c)(ii)(C); 173-400-110(1)(e); 173-400-110(2)(d); The part of WAC 173-400-110(4)(b)(vi) that says, • “not for use with materials containing toxic air pollutants, as listed in chapter 173-460 WAC,”; The part of 400-110 (4)(e)(iii) that says, • “where toxic air pollutants as defined in chapter 173-460 WAC are not emitted”; The part of 400-110(4)(f)(i) that says, • “that are not toxic air pollutants listed in chapter 173-460 WAC”; The part of 400-110 (4)(h)(xviii) that says, • “, to the extent that toxic air pollutant gases as defined in chapter 173-460 WAC are not emitted”; The part of 400-110 (4)(h)(xxxiii) that says, • “where no toxic air pollutants as listed under chapter 173-460 WAC are emitted”; The part of 400-110(4)(h)(xxxiv) that says, • “, or ≤1% (by weight) toxic air pollutants as listed in chapter 173-460 WAC”; The part of 400-110(4)(h)(xxxv) that says, • “or ≤1% (by weight) toxic air pollutants”; The part of 400-110(4)(h)(xxxvi) that says, • “or ≤1% (by weight) toxic air pollutants as listed in chapter 173-460 WAC”; 400-110(4)(h)(xl), second sentence; The last row of the table in 173-400-110(5)(b) regarding exemption levels for Toxic Air Pollutants.
173-400-111 | Processing Notice of Construction Applications for Sources, Stationary | 7/1/16 | 7/11/22, 87 FR 41064 | Except: 173-400-111(3)(h); The part of 173-400-111(8)(a)(v) that says, • “and 173-460-040,”; 173-400-111(9).
173-400-112 | Requirements for New Sources in Nonattainment Areas—Review for Compliance with Regulations | 12/29/12 | 7/11/22, 87 FR 41064
173-400-113 | New Sources in Attainment or Unclassifiable Areas—Review for Compliance with Regulations | 12/29/12 | 7/11/22, 87 FR 41064 | Except: 173-400-113(3), second sentence.
173-400-117 | Special Protection Requirements for Federal Class I Areas | 12/29/12 | 7/11/22, 87 FR 41064
173-400-118 | Designation of Class I, II, and III Areas | 12/29/12 | 7/11/22, 87 FR 41064
173-400-131 | Issuance of Emission Reduction Credits | 4/1/11 | 7/11/22, 87 FR 41064
173-400-136 | Use of Emission Reduction Credits (ERC) | 12/29/12 | 7/11/22, 87 FR 41064
173-400-151 | Retrofit Requirements for Visibility Protection | 2/10/05 | 7/11/22, 87 FR 41064
173-400-161 | Compliance Schedules | 3/22/91 | 6/2/95, 60 FR 28726
173-400-171 | Public Notice and Opportunity for Public Comment | 9/16/18 | 7/11/22, 87 FR 41064 | Except: The part of 173-400-171(3)(b) that says, • “or any increase in emissions of a toxic air pollutant above the acceptable source impact level for that toxic air pollutant as regulated under chapter 173-460 WAC”; 173-400-171(3)(o); 173-400-171(12).
173-400-190 | Requirements for Nonattainment Areas | 3/22/91 | 6/2/95, 60 FR 28726
173-400-200 | Creditable Stack Height and Dispersion Techniques | 2/10/05 | 7/11/22, 87 FR 41064
173-400-205 | Adjustment for Atmospheric Conditions | 3/22/91 | 6/2/95, 60 FR 28726
173-400-210 | Emission Requirements of Prior Jurisdictions | 3/22/91 | 6/2/95, 60 FR 28726
173-400-560 | General Order of Approval | 12/29/12 | 7/11/22, 87 FR 41064 | Except: The part of 173-400-560(1)(f) that says, “173-460 WAC”.
173-400-800 | Major Stationary Source and Major Modification in a Nonattainment Area | 4/1/11 | 7/11/22, 87 FR 41064 | EPA did not review WAC 173-400-800 through 860 for consistency with the 2016 PM2.5 implementation rule (see the Federal Register of August 24, 2016); nor does YRCAA have an obligation to submit rule revisions to address the 2016 PM2.5 implementation rule at this time
173-400-810 | Major Stationary Source and Major Modification Definitions | 7/1/16 | 7/11/22, 87 FR 41064
173-400-820 | Determining if a New Stationary Source or Modification to a Stationary Source is Subject to these Requirements | 12/29/12 | 7/11/22, 87 FR 41064
173-400-830 | Permitting Requirements | 7/1/16 | 7/11/22, 87 FR 41064
173-400-840 | Emission Offset Requirements | 7/1/16 | 7/11/22, 87 FR 41064
173-400-850 | Actual Emissions Plantwide Applicability Limitation (PAL) | 7/1/16 | 7/11/22, 87 FR 41064
173-400-860 | Public Involvement Procedures | 4/1/11 | 7/11/22, 87 FR 41064

(d) EPA-approved state source-specific requirements.

EPA-Approved State of Washington Source-Specific Requirements ¹
Name of source | Order/permit No. | State effective date | EPA approval date | Explanations
Boise Cascade, Wallula Mill | 1614-AQ04 | 9/15/04 | 5/2/05, 70 FR 22597 | Following conditions only: No. 1 (Approval Conditions) & Appendix A.
Emission Limits for Significant Stack Sources | various orders | various dates | 10/26/95, 60 FR 54812
Honam, Inc., Ideal Division (now known as LaFarge North America, Inc.) | #5183 | 2/9/94 | 8/31/04, 69 FR 53007
Saint Gobain Containers LLC | #8244 | 9/9/99 | 8/31/04, 69 FR 53007
Kaiser Order—Alternate Opacity Limit | 91-01 | 12/12/91 | 1/27/97, 62 FR 3800
Kaiser Order—Limiting Potential-to-Emit | 96-03 | 10/4/00 | 7/1/05, 70 FR 38029
Kaiser Order—Limiting Potential-to-Emit | 96-04 | 4/24/96 | 1/27/97, 62 FR 3800
Kaiser Order—Limiting Potential-to-Emit | 96-05 | 10/4/00 | 7/1/05, 70 FR 38029
Kaiser Order—Limiting Potential-to-Emit | 96-06 | 10/19/00 | 7/1/05, 70 FR 38029
RACT Limits for Centralia Power Plant | #97-2057R1 | 2/26/98 | 6/11/03, 68 FR 34821
BP Cherry Point Refinery | Administrative Order No. 7836, Revision 2. | 5/13/15 | 2/16/16, 81 FR 7710 | The following conditions: 1.1, 1.1.1, 1.2, 1.2.1, 1.2.2, 2.1, 2.1.1, 2.1.2, 2.1.3, 2.1.4, 2.1.5, 2.2, 2.2.1, 2.2.2, 2.3, 2.3.1, 2.3.2, 2.4, 2.4.1, 2.4.2, 2.4.2.1, 2.5, 2.5.1, 2.5.1.1, 2.5.1.2, 2.5.2, 2.5.3, 2.5.4, 2.6, 2.6.1, 2.6.2, 2.6.3, 2.7, 2.7.1, 2.7.2, 2.7.3, 2.7.4, 2.8, 2.8.1, 2.8.2, 2.8.3, 2.8.4, 2.8.5, 2.8.6, 3, 3.1, 3.1.1, 3.1.2, 3.2, 3.2.1, 3.2.2, 3.2.3, 3.2.4, 4, 4.1, 4.1.1, 4.1.1.1, 4.1.1.2, 4.1.1.3, 4.1.1.4, 5, 5.1, 5.2, 6, 6.1, 6.2, 6.3, 7, 9.
Alcoa Intalco Works | Administrative Order No. 7837, Revision 1 | 11/15/10 | 6/11/14, 79 FR 33438 | The following conditions: 1, 2., 2.1, 3., 4., 4.1, Attachment A conditions: A1, A2, A3, A4, A5, A6, A7, A8, A9, A10, A11, A12, A13, A14.
Tesoro Refining and Marketing Company | Administrative Order 7838 | 7/7/10 | 6/11/14, 79 FR 33438 | The following conditions: 1., 1.1, 1.1.1, 1.1.2, 1.2, 1.3, 1.4, 1.5, 1.5.1, 1.5.1.1,1.5.1.2, 1.5.1.3, 1.5.2, 1.5.3, 1.5.4, 1.5.5, 1.5.6, 2., 2.1, 2.1.1, 2.1.1.1, 2.1.2, 2.1.3, 2.2, 2.2.1, 3. 3.1, 3.1.1, 3.1.2, 3.1.2.1, 3.1.2.2, 3.1.2.3, 3.2, 3.2.1, 3.2.1.1, 3.2.1.2, 3.2.1.3, 3.2.1.4, 3.2.1.4.1, 3.2.1.4.2, 3.2.1.4.3, 3.2.1.4.4, 3.2.1.4.5, 3.3, 3.3.1, 3.4, 3.4.1, 3.4.2, 4., 4.1, 5., 5.1, 6., 6.1, 6.1.1, 6.1.2, 6.1.3, 6.1.4, 7., 7.1, 7.1.1, 7.1.2, 7.1.3, 7.1.4, 7.1.5, 7.2, 7.2.1, 7.2.2, 7.2.3, 7.2.4, 8. 8.1, 8.1.1, 8.1.2, 8.2, 8.2.1, 8.2.2, 8.2.3, 8.3, 8.3.1, 8.3.2, 9., 9.1, 9.1.1, 9.1.2, 9.2, 9.2.1, 9.39.3.1, 9.3.2, 9.3.3, 9.4, 9.4.1, 9.4.2, 9.4.3, 9.4.5, 9.4.6, 9.5, 10, 11, 12, 13, 13.1, 13.2, 13.3, 13.4, 13.5, 13.6.
Port Townsend Paper Corporation | Administrative Order No. 7839, Revision 1 | 10/20/10 | 6/11/14, 79 FR 33438 | The following Conditions:1, 1.1, 1.2, 1.3, 2, 2.1, 3, 3.1, 4.
Lafarge North America, Inc. Seattle, Wa. | Administrative Revised Order No. 7841 | 7/28/10 | 6/11/14, 79 FR 33438 | The following Conditions: 1, 1.1, 1.2, 2, 2.1, 2.1.1, 2.1.2, 2.2, 2.3, 3, 3.1, 3.1.1, 3.1.2, 3.1.3, 3.2, 3.3, 4, 4.1, 5, 5.1, 5.1.1, 5.1.2, 5.2, 5.3, 6, 6.1, 7, 7.1, 7.2, 7.3, 7.4, 7.5, 8, 8.1, 8.2, 8.3, 8.4, 8.5, 9, 10, 11, 12.
Weyerhaeuser Corporation, Longview, Wa | Administrative Order No. 7840 | 7/7/10 | 6/11/14, 79 FR 33438 | The following Conditions: 1, 1.1, 1.1.1, 1.1.2, 1.1.3, 1.2, 1.2.1, 1.2.2, 1.2.3, 1.3, 1.3.1, 1.4, 2, 2.1, 3, 3.1, 4, 4.1.
Tyson Fresh Meats, Inc | 13AQ-E526 | 4/16/14 | 5/1/20, 85 FR 25303 | Except: 1. Decontamination Cabinets; 2. Meat Cutting/Packing;
|  |  |  | 6. Wastewater Floatation;
|  |  |  | 8. Utility Equipment;
|  |  |  | 10. Other; References to “WAC 173-460-040” in Determinations”; The portion of Approval Condition 2.a which states, “and consumption of no more than 128 million cubic feet/of natural gas per year. Natural gas consumption records for the dryer shall be maintained for the most recent 24 month period and be available to Ecology for inspection. An increase in natural gas consumption that exceeds the above level may require a Notice of Construction.”;
|  |  |  | Approval Condition 3; Approval Condition 4; Approval Condition 5; Approval Condition 6.e; Approval Condition 9.a.ii; Approval Condition 9.a.iv; Approval Condition 9.a.v; Approval Condition 9.a.vi; Approval Condition 10.a.ii; Approval Condition 10.b; Approval Condition 11.a; Approval Condition 11.b; Approval Condition 11.e; Approval Condition 12; Approval Condition 15; The section titled “Your Right to Appeal”; and The section titled “Address and Location Information.”
Packaging Corporation of America (Wallula Mill) | 0003697 | 4/1/18 | 5/1/20, 85 FR 25303 | Condition P.1 only.
Simplot Feeders Limited Partnership | Fugitive Dust Control Plan | 3/1/18 | 5/1/20, 85 FR 25303 |
TransAlta Centralia BART—Second Revision | #6426 | 7/29/20 | 5/7/21, 86 FR 24502 | Except the undesignated introductory text, the section titled “Findings,” and the undesignated text following condition 9.
¹ The EPA does not have the authority to remove these source-specific requirements in the absence of a demonstration that their removal would not interfere with attainment or maintenance of the NAAQS, violate any prevention of significant deterioration increment or result in visibility impairment. Washington Department of Ecology may request removal by submitting such a demonstration to the EPA as a SIP revision.

(e) EPA approved nonregulatory provisions and quasi-regulatory measures.

Table 1—Approved But Not Incorporated by Reference Regulations
State/local citation | Title/subject | State/local effective date | EPA approval date | Explanations
Washington Department of Ecology Regulations
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726
173-400-260 | Conflict of Interest | 7/1/16 | 10/6/16, 81 FR 69385
173-433-200 | Regulatory Actions and Penalties | 10/18/90 | 1/15/93, 58 FR 4578
Energy Facility Site Evaluation Council Regulations
463-78-135 | Criminal Penalties | 11/11/04 | 5/30/17, 82 FR 24531
463-78-140 | Appeals Procedure | 3/26/06 | 5/30/17, 82 FR 24531
463-78-170 | Conflict of Interest | 11/11/04 | 5/30/17, 82 FR 24531
463-78-230 | Regulatory Actions | 11/11/04 | 5/30/17, 82 FR 24531
Benton Clean Air Agency Regulations
2.01 | Powers and Duties of the Benton Clean Air Agency (BCAA) | 12/11/14 | 11/17/15, 80 FR 71695
2.02 | Requirements for Board of Directors Members. | 12/11/14 | 11/17/15, 80 FR 71695 | Replaces WAC 173-400-220.
2.03 | Powers and Duties of the Board of Directors | 12/11/14 | 11/17/15, 80 FR 71695
2.04 | Powers and Duties of the Control Officer | 12/11/14 | 11/17/15, 80 FR 71695
2.05 | Severability | 12/11/14 | 11/17/15, 80 FR 71695
2.06 | Confidentiality of Records and Information | 12/11/14 | 11/17/15, 80 FR 71695
Northwest Clean Air Agency Regulations
103 | Duties and Powers | 8/21/05 | 6/15/20, 85 FR 36154
105 | Separability | 8/21/05 | 6/15/20, 85 FR 36154
110 | Investigation and Studies | 8/21/05 | 6/15/20, 85 FR 36154
111 | Interference or Obstruction | 8/21/05 | 6/15/20, 85 FR 36154
112 | False and Misleading Oral Statement: Unlawful Reproduction or Alteration of Documents | 8/21/05 | 6/15/20, 85 FR 36154
113 | Service of Notice | 12/22/07 | 6/15/20, 85 FR 36154
114 | Confidential Information | 12/22/07 | 6/15/20, 85 FR 36154
120 | Hearings | 12/22/07 | 6/15/20, 85 FR 36154
123 | Appeal of Orders | 4/14/13 | 6/15/20, 85 FR 36154
124 | Display of Orders, Certificates and Other Notices: Removal or Mutilation Prohibited | 8/21/05 | 6/15/20, 85 FR 36154
131 | Notice to Violators | 4/14/13 | 6/15/20, 85 FR 36154
132 | Criminal Penalty | 9/13/15 | 6/15/20, 85 FR 36154
133 | Civil Penalty | 9/13/15 | 6/15/20, 85 FR 36154
134 | Restraining Orders—Injunction | 8/21/05 | 6/15/20, 85 FR 36154
135 | Assurance of Discontinuance | 12/22/07 | 6/15/20, 85 FR 36154
303 | Work Done Without an Approval | 5/12/19 | 6/15/20, 85 FR 36154
Olympic Region Clean Air Agency Regulations
8.1.6 | Penalties | 5/22/10 | 10/3/13, 78 FR 61188
Puget Sound Clean Air Agency Regulations
3.01 | Duties and Powers of the Control Officer | 11/1/99 | 4/22/20, 85 FR 22355
3.05 | Investigations by the Control Officer | 3/17/94 | 4/22/20, 85 FR 22355
3.07 | Compliance Tests | 5/1/06 | 4/22/20, 85 FR 22355
3.09 | Violations—Notice | 9/12/91 | 4/22/20, 85 FR 22355
3.11 | Civil Penalties | 11/1/19 | 4/22/20, 85 FR 22355
3.13 | Criminal Penalties | 9/12/91 | 4/22/20, 85 FR 22355
3.15 | Additional Enforcement | 9/12/91 | 4/22/20, 85 FR 22355
3.17 | Appeal of Orders | 11/14/98 | 4/22/20, 85 FR 22355
3.19 | Confidential Information | 9/12/91 | 4/22/20, 85 FR 22355
3.21 | Separability | 9/12/91 | 4/22/20, 85 FR 22355
Southwest Clean Air Agency Regulations
400-220 | Requirements for Board Members | 3/18/01 | 4/10/17, 82 FR 17136
400-230 | Regulatory Actions and Civil Penalties | 9/10/21 | 9/29/23, 88 FR 67097
400-240 | Criminal Penalties | 9/10/21 | 9/29/23, 88 FR 67097
400-250 | Appeals | 11/9/03 | 4/10/17, 82 FR 17136
400-270 | Confidentiality of Records and Information | 9/10/21 | 9/29/23, 88 FR 67097
400-280 | Powers of Agency |  | 9/29/23, 88 FR 67097
Spokane Regional Clean Air Agency Regulations
2.01 | Powers and Duties of the Board | 9/1/20 | 5/10/21, 86 FR 24718
2.02 | Control Officer's Duties and Powers | 9/1/20 | 5/10/21, 86 FR 24718 | Section 2.02(E) replaces WAC 173-400-105(3).
2.03 | Confidential or Proprietary Information | 9/1/20 | 5/10/21, 86 FR 24718
2.04 | Violations | 9/1/20 | 5/10/21, 86 FR 24718 | Replaces WAC 173-400-230(1)&(6).
2.05 | Orders and Hearings | 9/1/20 | 5/10/21, 86 FR 24718
2.06 | Appeal of Board Orders | 9/1/20 | 5/10/21, 86 FR 24718 | Replaces WAC 173-400-250.
2.10 | Severability | 9/1/20 | 5/10/21, 86 FR 24718
2.11 | Penalties, Civil Penalties, and Additional Means for Enforcement | 9/1/20 | 5/10/21, 86 FR 24718 | Replaces WAC 173-400-230(2)&(3).
2.12 | Restraining Orders—Injunctions | 9/1/20 | 5/10/21, 86 FR 24718 | Replaces WAC 173-400-230(4).
8.11 | Regulatory Actions and Penalties | 9/2/14 | 9/28/15, 80 FR 58216
Yakima Regional Clean Air Agency Regulations
1.05 | Roles and Responsibilities | 11/9/20 | 7/11/22, 87 FR 41064
2.01 | Authority and Investigation | 11/9/20 | 7/11/22, 87 FR 41064
2.02 | Authority to Collect Fees | 11/9/20 | 7/11/22, 87 FR 41064
2.05 | Appeals | 11/9/20 | 7/11/22, 87 FR 41064
5.01 | General Information | 11/9/20 | 7/11/22, 87 FR 41064
5.02 | Additional or Alternative Enforcement Actions | 11/9/20 | 7/11/22, 87 FR 41064
5.03 | Penalties | 11/9/20 | 7/11/22, 87 FR 41064

Table 2—Attainment, Maintenance, and Other Plans
Name of SIP provision | Applicable geographic or nonattainment area | State submittal date | EPA approval date | Explanations
Attainment and Maintenance Planning—Carbon Monoxide
Carbon Monoxide Attainment Plan | Yakima | 4/27/79 | 6/5/80, 45 FR 37821
Carbon Monoxide Attainment Plan | Puget Sound | 1/22/93 | 1/20/94, 59 FR 2994
Carbon Monoxide Attainment Plan | Spokane | 1/22/93 | 1/20/94, 59 FR 2994
Carbon Monoxide Attainment Plan | Vancouver | 1/22/93 | 1/20/94, 59 FR 2994
Carbon Monoxide Attainment Plan—Contingency Measure | Vancouver | 11/10/93 | 10/31/94, 59 FR 54419
Carbon Monoxide Attainment Plan—VMT Supplement | Puget Sound | 1/22/93 | 8/23/95, 60 FR 43710
Carbon Monoxide Maintenance Plan | Puget Sound | 2/29/96 | 10/11/96, 61 FR 53323
Carbon Monoxide Maintenance Plan | Vancouver | 3/19/96 | 10/21/96, 61 FR 54560
Carbon Monoxide Attainment Plan—Revisions | Spokane | 9/14/93 and 4/30/96 | 9/22/97, 62 FR 49442
Carbon Monoxide Attainment Plan—Correction | Spokane |  | 12/31/97, 62 FR 68187
Carbon Monoxide Maintenance Plan | Yakima | 9/26/01 | 11/01/02, 67 FR 66555
Carbon Monoxide Maintenance Plan 10-Year Update | Puget Sound | 12/17/03; 6/3/19 | 8/5/04, 69 FR 47365; 2/18/21, 86 FR 10026 | 6/3/19 submission moved Motor Vehicle Inspection and Maintenance Program from control measure to contingency measure.
Carbon Monoxide Attainment Plan—Including Kaiser Orders | Spokane | 9/20/01 and 11/22/04 | 5/12/05, 70 FR 24991
Carbon Monoxide Maintenance Plan | Spokane | 11/29/04 | 6/29/05, 70 FR 37269
Carbon Monoxide Maintenance Plan 10-Year Update | Vancouver | 4/25/07; 6/3/19 | 6/27/08, 73 FR 36439; 2/18/21, 86 FR 10026 | 6/3/19 submission moved Motor Vehicle Inspection and Maintenance Program from control measure to contingency measure.
Carbon Monoxide 2nd 10-Year Limited Maintenance Plan | Spokane | 5/11/16; 6/3/19 | 7/14/16, 81 FR 45417; 2/18/21, 86 FR 10026
Attainment and Maintenance Planning—Lead (Pb)
Lead Attainment Plan | Seattle | 9/27/84 | 1/29/85, 50 FR 3907
Attainment and Maintenance Planning—Ozone
Ozone Attainment Plan | Vancouver | 7/16/82 | 12/17/82, 47 FR 56497
Ozone Attainment Plan | Seattle-Tacoma | 7/16/82 | 2/28/83, 48 FR 8273
Ozone Attainment Plan—VOC RACT | Seattle-Tacoma | 5/14/91 | 7/12/93, 58 FR 37426
Ozone Attainment Plan—VOC RACT | Vancouver | 5/14/91 | 7/12/93, 58 FR 37426
Ozone Attainment Plan—Emission Statement Program | Seattle-Tacoma | 1/28/93 | 9/12/94, 59 FR 46764
Ozone Attainment Plan—Emission Statement Program | Vancouver | 1/28/93 | 9/12/94, 59 FR 46764
Ozone Maintenance Plan | Seattle-Tacoma | 3/4/96 | 9/26/96, 21 FR 50438
Ozone Maintenance Plan | Vancouver | 6/13/96 | 5/19/97, 62 FR 27204
Ozone Maintenance Plan 10-Year Update | Seattle-Tacoma | 12/17/03 | 8/5/04, 69 FR 47365
8-Hour Ozone 110(a)(1) Maintenance Plan | Seattle-Tacoma | 2/5/08 | 5/2/14, 79 FR 25010; 2/18/21, 86 FR 10026 | 6/3/19 submission moved Motor Vehicle Inspection and Maintenance Program from control measure to contingency measure.
8-Hour Ozone 110(a)(1) Maintenance Plan | Vancouver | 1/17/07 | 8/11/15, 80 FR 48033; 2/18/21, 86 FR 10026 | 6/3/19 submission moved Motor Vehicle Inspection and Maintenance Program from control measure to contingency measure.
Attainment and Maintenance Planning—Particulate Matter (PM10)
Particulate Matter (PM10) Attainment Plan | Kent | 11/15/91 | 7/27/93, 58 FR 40059
Particulate Matter (PM10) Attainment Plan | Thurston County | 2/17/89 and 11/15/91 | 7/27/93, 58 FR 40056
Particulate Matter (PM10) Attainment Plan | Tacoma | 5/2/95 | 10/25/95, 60 FR 54559
Particulate Matter (PM10) Attainment Plan | Seattle | 2/21/95 | 10/26/95, 60 FR 54812
Particulate Matter (PM10) Attainment Plan | Spokane | 12/9/94 | 1/27/97, 62 FR 3800
Particulate Matter (PM10) Attainment Plan | Wallula | 11/13/91 | 1/27/97, 62 FR 3800
Particulate Matter (PM10) Attainment Plan | Yakima | 3/24/89 | 2/2/98, 63 FR 5269
Particulate Matter (PM10) Maintenance Plan | Thurston County | 8/16/99 | 10/4/00, 65 FR 59128
Particulate Matter (PM10) Maintenance Plan | Kent | 8/23/99 | 3/13/01, 66 FR 14492
Particulate Matter (PM10) Maintenance Plan | Seattle | 8/23/99 | 3/13/01, 66 FR 14492
Particulate Matter (PM10) Maintenance Plan | Tacoma | 8/23/99 | 3/13/01, 66 FR 14492
Particulate Matter (PM10) Maintenance Plan | Yakima | 7/8/04 | 2/8/05, 70 FR 6591
Particulate Matter (PM10) Attainment Plan—Revision | Wallula | 11/30/04 | 5/2/05, 70 FR 22597
Particulate Matter (PM10) Maintenance Plan | Spokane | 11/30/04 | 7/1/05, 70 FR 38029
Particulate Matter (PM10) Maintenance Plan | Wallula | 3/29/05 | 8/26/05, 70 FR 50212
Particulate Matter (PM10) 2nd 10-Year Limited Maintenance Plan | Thurston County | 7/1/13 | 10/3/13, 78 FR 61188
Particulate Matter (PM10) 2nd 10-Year Limited Maintenance Plan | Kent, Seattle, and Tacoma | 11/29/13; 6/3/19 | 8/20/14, 79 FR 49244; 2/18/21, 86 FR 10026 | 6/3/19 submission moved Motor Vehicle Inspection and Maintenance Program from control measure to contingency measure.
Particulate Matter (PM10) 2nd 10-Year Limited Maintenance Plan | Spokane | 1/4/16 | 4/12/16, 81 FR 21470
Particulate Matter (PM10) 2nd 10-Year Limited Maintenance Plan | Wallula | 11/22/19 | 5/1/20, 85 FR 25303
Attainment and Maintenance Planning—Particulate Matter (PM2.5)
Particulate Matter (PM2.5) Clean Data Determination | Tacoma, Pierce County | 5/22/12 | 9/04/12, 77 FR 53772
Particulate Matter (PM2.5) 2008 Baseline Emissions Inventory and SIP Strengthening Rules | Tacoma, Pierce County | 11/28/12 | 5/29/13, 78 FR 32131
Approval of Motor Vehicle Emission Budgets and Determination of Attainment for the 2006 24-Hour Fine Particulate Standard (PM2.5) | Tacoma, Pierce County | 11/28/12 | 9/19/13, 78 FR 57503
Particulate Matter (PM2.5) Maintenance Plan | Tacoma, Pierce County | 11/3/14 | 2/10/15, 80 FR 7347
Visibility and Regional Haze Plans
Visibility New Source Review (NSR) for non-attainment areas for Washington | Statewide |  | 6/26/86, 51 FR 23228
Washington State Visibility Protection Program | Statewide | 11/5/99 | 6/11/03, 68 FR 34821
Regional Haze State Implementation Plan—TransAlta BART | Statewide | 12/29/11 | 12/6/12, 77 FR 72742
Regional Haze SIP | Statewide | 12/22/10 | 6/11/14, 79 FR 33438 | The Regional Haze SIP including those provisions relating to BART incorporated by reference in § 52.2470 `Identification of plan' with the exception of the BART provisions that are replaced with a BART FIP in § 52.2498 Visibility protection., § 52.2500 Best available retrofit technology requirements for the Intalco Aluminum Corporation (Intalco Works) primary aluminum plant—Better than BART Alternative., § 52.2501 Best available retrofit technology (BART) requirement for the Tesoro Refining and Marketing Company oil refinery—Better than BART Alternative., § 52.2502 Best available retrofit technology requirements for the Alcoa Inc.—Wenatchee Works primary aluminum smelter.
Regional Haze SIP—Technical Correction | Statewide | 12/22/10 | 11/24/14, 79 FR 69767
Regional Haze State Implementation Plan—BP Cherry Point Refinery BART Revision | Statewide | 5/14/15 | 2/16/16, 81 FR 7710
Regional Haze Progress Report | Statewide | 11/6/2017 | 7/31/18, 83 FR 36752
Smoke Management Planning
Department of Natural Resources 2022 Smoke Management Plan | Statewide | 8/10/22 | 8/10/23, 88 FR 54240
110(a)(2) Infrastructure and Interstate Transport
Interstate Transport for the 1997 8-Hour Ozone and PM2.5 NAAQS | Statewide | 1/17/07 | 1/13/09, 74 FR 1591
110(a)(2) Infrastructure Requirements—1997 Ozone Standard | Statewide | 1/24/12 | 5/24/12, 77 FR 30902
110(a)(2) Infrastructure Requirements—2008 Lead Standard | Statewide | 4/14/14 | 7/23/14, 79 FR 42683 | This action addresses the following CAA elements: 110(a)(2)(A), (B), (C), (D)(i)(II), (D)(ii), (E), (F), (G), (H), (J), (K), (L), and (M).
110(a)(2) Infrastructure Requirements—2008 Ozone and 2010 Nitrogen Dioxide Standards | Statewide | 9/22/14 | 1/14/15, 80 FR 1849 | This action addresses the following CAA elements: 110(a)(2)(A), (B), (C), (D)(i)(II), (D)(ii), (E), (F), (G), (H), (J), (K), (L), and (M).
110(a)(2) Infrastructure Requirements -1997, 2006, and 2012 Fine Particulate Matter (PM2.5) Standards | Statewide | 9/22/14 | 5/12/15, 80 FR 27102 | This action addresses the following CAA elements: 110(a)(2)(A), (B), (C), (D)(i)(II), (D)(ii), (E), (F), (G), (H), (J), (K), (L), and (M).
Interstate Transport for the 2008 Pb and 2010 NO2 NAAQS | Statewide | 5/11/15 | 7/16/15, 80 FR 42042 | This action addresses CAA 110(a)(2)(D)(i)(I).
Interstate Transport for the 2006 24-hour PM2.5 NAAQS | Statewide | 5/11/15 | 7/30/15, 80 FR 45429 | This action addresses CAA 110(a)(2)(D)(i)(I).
Interstate Transport for the 2008 Ozone NAAQS | Statewide | 5/11/15 | 12/15/15, 80 FR 77578 | This action addresses CAA 110(a)(2)(D)(i)(I).
Interstate Transport for the 2012 PM2.5 NAAQS | Statewide | 2/7/18 | 8/20/18, 83 FR 42031 | This action addresses CAA 110(a)(2)(D)(i)(I).
Interstate Transport for the 2015 Ozone NAAQS | Statewide | 2/7/18 | 9/20/18, 83 FR 47568 | This action addresses CAA 110(a)(2)(D)(i)(I).
110(a)(2) Infrastructure Requirements—Sulfur Dioxide Standards and 2015 Ozone Standards | Statewide | 9/30/19 and 4/3/20 | 2/18/21, 86 FR 10022 | This action addresses the following CAA section 110(a)(2) elements: (A), (B), (C), (D)(i)(II), (D)(ii), (E), (F), (G), (H), (J), (K), (L), and (M).
Interstate Transport for the 2010 SO2 NAAQS | Statewide | 2/7/18 | 2/18/21, 86 FR 10015 | This action addresses CAA 110(a)(2)(D)(i)(I).
Other Federally Mandated Plans
Oxygenated Gasoline Program |  | 1/22/93 | 1/20/94, 59 FR 2994
Business Assistance Program |  | 11/16/92 | 3/8/95, 60 FR 12685
Supplementary Documents
Air Quality Monitoring, Data Reporting and Surveillance Provisions |  | 4/15/81
Energy Facilities Site Evaluation Council (EFSEC) Memorandum of Agreement |  | 2/23/82
2003 Columbia Plateau Windblown Dust Natural Events Action Plan |  | 11/22/19 | 5/1/20, 85 FR 25303
2018 Fugitive Dust Control Guidelines for Beef Cattle Feedlots and Best Management Practices |  | 11/22/19 | 5/1/20, 85 FR 25303

[FR Doc. 2024-16953 Filed 8-16-24; 8:45 am]

BILLING CODE 6560-50-P